OFFICE OF PERSONNEL MANAGEMENT

Excepted Service; Consolidated Listing of Schedules A, B, and C Exceptions

AGENCY: Office of Personnel Management.

ACTION: Notice.

SUMMARY: This provides the consolidated notice of all agency specific excepted authorities, approved by the Office of Personnel Management (OPM), under Schedule A, B, and C, as of June 30, 2017, as required by Civil Service Rule VI, Exceptions from the Competitive Service.

FOR FURTHER INFORMATION CONTACT: Senior Executive Resources Services, Senior Executive Services and Performance Management, Employee Services, 202-606-2246.

SUPPLEMENTARY INFORMATION: Civil Service Rule VI (5 CFR 6.1) requires the Office of Personnel Management (OPM) to publish notice of exceptions granted under Schedule A, B, and C. Under 5 CFR 213.103(a) it is required that all Schedule A, B, and C appointing authorities available for use by all agencies to be published as regulations in the Federal Register (FR) and the Code of Federal Regulations (CFR). Excepted appointing authorities established solely for use by one specific agency do not meet the standard of general applicability prescribed by the Federal Register Act for regulations published in either the FR or the CFR. Therefore, 5 CFR 213.103(b) requires monthly publication, in the Notices section of the Federal Register, of any Schedule A, B, and C appointing authorities applicable to a single agency. Under 5 CFR 213.103(c) it is required that a consolidated listing of all Schedule A, B, and C authorities, current as of June 30 of each year, be published annually in the Notices section of the Federal Register at www.federalregister.gov/agencies/personnel-management-office. That notice follows. Governmentwide authorities codified in the CFR are not printed in this notice.

When making appointments under an agency-specific authority, agencies should first list the appropriate Schedule A, B, or C, followed by the applicable number, for example: Schedule A, 213.3104(x)(x). Agencies are reminded that all excepted authorities are subject to the provisions of 5 CFR part 302 unless specifically exempted by OPM at the time of approval.

OPM maintains continuing information on the status of all Schedule A, B, and C appointing authorities. Interested parties needing information about specific authorities during the year may obtain information by writing to the Senior Executive Resources Services, Office of Personnel Management, 1900 E Street NW, Room 7412, Washington, DC 20415, or by calling (202) 606-2246.

The following exceptions are current as of June 30, 2017

Schedule A

03. Executive Office of the President (Sch. A, 213.3103)

(a) Office of Administration—

(1) Not to exceed 75 positions to provide administrative services and support to the White House Office.

(b) Office of Management and Budget—

(1) Not to exceed 20 positions at grades GS-5/15.

(2) Not to Exceed 34 positions that require unique technical skills needed for the re-designing and re-building of digital interfaces between citizens, businesses, and government as a part of Smarter Information Technology Delivery Initiative. This authority may be used to make permanent, time-limited and temporary appointments to Digital Services Expert positions (GS-301) directly related to the implementation of the Smarter Information Technology Delivery Initiative at the GS-14 to 15 level. No new appointments may be made under this authority after September 30, 2017.

(c) Council on Environmental Quality—

(1) Professional and technical positions in grades GS-9 through 15 on the staff of the Council.

(d)-(f) (Reserved)

(g) National Security Council—

(1) All positions on the staff of the Council.

(h) Office of Science and Technology Policy—

(1) Thirty positions of Senior Policy Analyst, GS-15; Policy Analyst, GS-11/14; and Policy Research Assistant, GS-9, for employment of anyone not to exceed 5 years on projects of a high priority nature.

(i) Office of National Drug Control Policy—

(1) Not to exceed 18 positions, GS-15 and below, of senior policy analysts and other personnel with expertise in drug-related issues and/or technical knowledge to aid in anti-drug abuse efforts.

04. Department of State (Sch. A, 213.3104)

(a) Office of the Secretary—

(1) All positions, GS-15 and below, on the staff of the Family Liaison Office, Director General of the Foreign Service and the Director of Personnel, Office of the Under Secretary for Management.

(2) (Reserved)

(b)-(f) (Reserved)

(g) Bureau of Population, Refugees, and Migration—

(1) Not to exceed 10 positions at grades GS-5 through 11 on the staff of the Bureau.

(h) Bureau of Administration—

(1) (Reserved)

(2) One position of the Director, Art in Embassies Program, GM-1001-15.

(3) (Reserved)

05. Department of the Treasury (Sch. A, 213.3105)

(a) Office of the Secretary—

(1) Not to exceed 20 positions at the equivalent of GS-13 through GS-15 or Senior Level (SL) to supplement permanent staff in the study of complex problems relating to international financial, economic, trade, and energy policies and programs of the Government, when filled by individuals with special qualifications for the particular study being undertaken. Employment under this authority may not exceed 4 years.

(2) Covering no more than 100 positions supplementing permanent staff studying domestic economic and financial policy, with employment not to exceed 4 years.

(3) Not to exceed 100 positions in the Office of the Under Secretary for Terrorism and Financial Intelligence.

(4) Up to 35 temporary or time-limited positions at the GS-9 through 15 grade levels to support the organization, design, and stand-up activities for the Consumer Financial Protection Bureau (CFPB), as mandated by P.L. 111-203. This authority may be used for the following series: GS-201, GS-501, GS-560, GS-1035, GS-1102, GS-1150, GS-1720, GS-1801, and GS-2210. No new appointments may be made under this authority after July 21, 2011, the designated transfer date of the CFPB.

(b)-(d) (Reserved)

(e) Internal Revenue Service—

(1) Twenty positions of investigator for special assignments.

(f) (Reserved)

(g) (Reserved, moved to DOJ)

(h) Office of Financial Stability—

(1) Positions needed to perform investment, risk, financial, compliance, and asset management requiring unique qualifications currently not established by OPM. Positions will be in the Office of Financial Stability and the General Schedule (GS) grade levels 12-15 or Senior Level (SL), for initial employment not to exceed 4 years. No new appointments may be made under this authority after December 31, 2012.

06. Department of Defense (Sch. A, 213.3106)

(a) Office of the Secretary—

(1)-(5) (Reserved)

(6) One Executive Secretary, U.S.-USSR Standing Consultative Commission and Staff Analyst (SALT), Office of the Assistant Secretary of Defense (International Security Affairs).

(b) Entire Department (including the Office of the Secretary of Defense and the Departments of the Army, Navy, and Air Force)—

(1) Dependent School Systems overseas—Professional positions in Military Dependent School systems overseas.

(2) Positions in Attaché 1 systems overseas, including all professional and scientific positions in the Naval Research Branch Office in London.

(3) Positions of clerk-translator, translator, and interpreter overseas.

(4) Positions of Educational Specialist the incumbents of which will serve as Director of Religious Education on the staffs of the chaplains in the military services.

(5) Positions under the program for utilization of alien scientists, approved under pertinent directives administered by the Director of Defense Research and Engineering of the Department of Defense, when occupied by alien scientists initially employed under the program including those who have acquired United States citizenship during such employment.

(6) Positions in overseas installations of the DOD when filled by dependents of military or civilian employees of the U.S. Government residing in the area. Employment under this authority may not extend longer than 2 months following the transfer from the area or separation of a dependent's sponsor: Provided that

(i) A school employee may be permitted to complete the school year; and

(ii) An employee other than a school employee may be permitted to serve up to 1 additional year when the military department concerned finds that the additional employment is in the interest of management.

(7) Twenty secretarial and staff support positions at GS-12 or below on the White House Support Group.

(8) Positions in DOD research and development activities occupied by participants in the DOD Science and Engineering Apprenticeship Program for High School Students. Persons employed under this authority shall be bona fide high school students, at least 14 years old, pursuing courses related to the position occupied and limited to 1,040 working hours a year. Children of DOD employees may be appointed to these positions, notwithstanding the sons and daughters restriction, if the positions are in field activities at remote locations. Appointments under this authority may be made only to positions for which qualification standards established under 5 CFR part 302 are consistent with the education and experience standards established for comparable positions in the competitive service. Appointments under this authority may not be used to extend the service limits contained in any other appointing authority.

(9) (Reserved)

(10) Temporary or time-limited positions in direct support of U.S. Government efforts to rebuild and create an independent, free and secure Iraq and Afghanistan, when no other appropriate appointing authority applies. Positions will generally be located in Iraq or Afghanistan, but may be in other locations, including the United States, when directly supporting operations in Iraq or in Afghanistan. No new appointments may be made under this authority after September 30, 2014.

(11) Not to exceed 3,000 positions that require unique cyber security skills and knowledge to perform cyber risk and strategic analysis, incident handling and malware/vulnerability analysis, program management, distributed control systems security, cyber incident response, cyber exercise facilitation and management, cyber vulnerability detection and assessment, network and systems engineering, enterprise architecture, investigation, investigative analysis and cyber-related infrastructure inter-dependency analysis. This authority may be used to make permanent, time-limited and temporary appointments in the following occupational series: Security (GS-0080), computer engineers (GS-0854), electronic engineers (GS-0855), computer scientists (GS-1550), operations research (GS-1515), criminal investigators (GS-1811), telecommunications (GS-0391), and IT specialists (GS-2210). Within the scope of this authority, the U.S. Cyber Command is also authorized to hire miscellaneous administrative and program (GS-0301) series when those positions require unique cyber security skills and knowledge. All positions will be at the General Schedule (GS) grade levels 09-15 or equivalent. No new appointments may be made under this authority after December 31, 2017.

(c) (Reserved)

(d) General—

(1) Positions concerned with advising, administering, supervising, or performing work in the collection, processing, analysis, production, evaluation, interpretation, dissemination, and estimation of intelligence information, including scientific and technical positions in the intelligence function; and positions involved in the planning, programming, and management of intelligence resources when, in the opinion of OPM, it is impracticable to examine. This authority does not apply to positions assigned to cryptologic and communications intelligence activities/functions.

(2) Positions involved in intelligence-related work of the cryptologic intelligence activities of the military departments. This includes all positions of intelligence research specialist, and similar positions in the intelligence classification series; all scientific and technical positions involving the applications of engineering, physical, or technical sciences to intelligence work; and professional as well as intelligence technician positions in which a majority of the incumbent's time is spent in advising, administering, supervising, or performing work in the collection, processing, analysis, production, evaluation, interpretation, dissemination, and estimation of intelligence information or in the planning, programming, and management of intelligence resources.

(e) Uniformed Services University of the Health Sciences—

(1) Positions of President, Vice Presidents, Assistant Vice Presidents, Deans, Deputy Deans, Associate Deans, Assistant Deans, Assistants to the President, Assistants to the Vice Presidents, Assistants to the Deans, Professors, Associate Professors, Assistant Professors, Instructors, Visiting Scientists, Research Associates, Senior Research Associates, and Postdoctoral Fellows.

(2) Positions established to perform work on projects funded from grants.

(f) National Defense University—

(1) Not to exceed 16 positions of senior policy analyst, GS-15, at the Strategic Concepts Development Center. Initial appointments to these positions may not exceed 6 years, but may be extended thereafter in 1-, 2-, or 3-year increments, indefinitely.

(g) Defense Communications Agency—

(1) Not to exceed 10 positions at grades GS-10/15 to staff and support the Crisis Management Center at the White House.

(h) Defense Acquisition University—

(1) The Provost and professors.

(i) George C. Marshall European Center for Security Studies, Garmisch, Germany—

(1) The Director, Deputy Director, and positions of professor, instructor, and lecturer at the George C. Marshall European Center for Security Studies, Garmisch, Germany, for initial employment not to exceed 3 years, which may be renewed in increments from 1 to 2 years thereafter.

(j) Asia-Pacific Center for Security Studies, Honolulu, Hawaii—

(1) The Director, Deputy Director, Dean of Academics, Director of College, deputy department chairs, and senior positions of professor, associate professor, and research fellow within the Asia Pacific Center. Appointments may be made not to exceed 3 years and may be extended for periods not to exceed 3 years.

(k) Business TransformationAgency—

(1) Fifty temporary or time-limited (not to exceed four years) positions, at grades GS-11 through GS-15. The authority will be used to appoint persons in the following series: Management and Program Analysis, GS-343: Logistics Management, GS-346; Financial Management Programs, GS-501; Accounting, GS-510; Computer Engineering, GS-854; Business and Industry, GS-1101; Operations Research, GS-1515; Computer Science, GS-1550; General Supply, GS-2001; Supply Program Management, GS-2003; Inventory Management, GS-2010; and Information Technology, GS-2210.

(l) Special Inspector General for Afghanistan—

(1) Positions needed to establish the Special Inspector General for Afghanistan Reconstruction. These positions provide for the independent and objective conduct and supervision of audits and investigations relating to the programs and operations funded with amounts appropriated and otherwise made available for the reconstruction of Afghanistan. These positions are established at General Schedule (GS) grade levels for initial employment not to exceed 3 years and may, with prior approval of OPM, be extended for an additional period of 2 years. No new appointments may be made under this authority after January 31, 2011.

07. Department of the Army (Sch. A, 213.3107)

(a)-(c) (Reserved)

(d) U.S. Military Academy, West Point, New York—

(1) Civilian professors, instructors, teachers (except teachers at the Children's School), Cadet Social Activities Coordinator, Chapel Organist and Choir-Master, Director of Intercollegiate Athletics, Associate Director of Intercollegiate Athletics, Coaches, Facility Manager, Building Manager, three Physical Therapists (Athletic Trainers), Associate Director of Admissions for Plans and Programs, Deputy Director of Alumni Affairs; and Librarian when filled by an officer of the Regular Army retired from active service, and the Military Secretary to the Superintendent when filled by a U.S. Military Academy graduate retired as a regular commissioned officer for disability.

(e)-(f) (Reserved)

(g) Defense Language Institute—

(1) All positions (professors, instructors, lecturers) which require proficiency in a foreign language or knowledge of foreign language teaching methods.

(h) Army War College, Carlisle Barracks, PA—

(1) Positions of professor, instructor, or lecturer associated with courses of instruction of at least 10 months duration for employment not to exceed 5 years, which may be renewed in 1-, 2-, 3-, 4-, or 5-year increments indefinitely thereafter.

(i) (Reserved)

(j) U.S. Military Academy Preparatory School, Fort Monmouth, New Jersey—

(1) Positions of Academic Director, Department Head, and Instructor.

(k) U.S. Army Command and General Staff College, Fort Leavenworth, Kansas—

(1) Positions of professor, associate professor, assistant professor, and instructor associated with courses of instruction of at least 10 months duration, for employment not to exceed up to 5 years, which may be renewed in 1-, 2-, 3-, 4-, or 5-year increments indefinitely thereafter.

08. Department of the Navy (Sch. A, 213.3108)

(a) General—

(1)-(14) (Reserved)

(15) Marine positions assigned to a coastal or seagoing vessel operated by a naval activity for research or training purposes.

(16) All positions necessary for the administration and maintenance of the official residence of the Vice President.

(b) Naval Academy, Naval Postgraduate School, and Naval War College—

(1) Professors, Instructors, and Teachers; the Director of Academic Planning, Naval Postgraduate School; and the Librarian, Organist-Choirmaster, Registrar, the Dean of Admissions, and Social Counselors at the Naval Academy.

(c) Chief of Naval Operations—

(1) One position at grade GS-12 or above that will provide technical, managerial, or administrative support on highly classified functions to the Deputy Chief of Naval Operations (Plans, Policy, and Operations).

(d) Military Sealift Command

(1) All positions on vessels operated by the Military Sealift Command.

(e)-(f) (Reserved)

(g) Office of Naval Research—

(1) Scientific and technical positions, GS-13/15, in the Office of Naval Research International Field Office which covers satellite offices within the Far East, Africa, Europe, Latin America, and the South Pacific. Positions are to be filled by personnel having specialized experience in scientific and/or technical disciplines of current interest to the Department of the Navy.

09. Department of the Air Force (Sch. A, 213.3109)

(a) Office of the Secretary—

(1) One Special Assistant in the Office of the Secretary of the Air Force. This position has advisory rather than operating duties except as operating or administrative responsibilities may be exercised in connection with the pilot studies.

(b) General—

(1) Professional, technical, managerial and administrative positions supporting space activities, when approved by the Secretary of the Air Force.

(2) Two hundred positions, serviced by Hill Air Force Base, Utah, engaged in interdepartmental activities in support of national defense projects involving scientific and technical evaluations.

(c) Norton and McClellan Air Force Bases, California—

(1) Not to exceed 20 professional positions, GS-11 through GS-15, in Detachments 6 and 51, SM-ALC, Norton and McClellan Air Force Bases, California, which will provide logistic support management to specialized research and development projects.

(d) U.S. Air Force Academy, Colorado—

(1) (Reserved)

(2) Positions of Professor, Associate Professor, Assistant Professor, and Instructor, in the Dean of Faculty, Commandant of Cadets, Director of Athletics, and Preparatory School of the United States Air Force Academy.

(e) (Reserved)

(f) Air Force Office of Special Investigations—

(1) Positions of Criminal Investigators/Intelligence Research Specialists, GS-5 through GS-15, in the Air Force Office of Special Investigations.

(g) Wright-Patterson Air Force Base, Ohio—

(1) Not to exceed eight positions, GS-12 through 15, in Headquarters Air Force Logistics Command, DCS Material Management, Office of Special Activities, Wright-Patterson Air Force Base, Ohio, which will provide logistic support management staff guidance to classified research and development projects.

(h) Air University, Maxwell Air Force Base, Alabama—

(1) Positions of Professor, Instructor, or Lecturer.

(i) Air Force Institute of Technology, Wright-Patterson Air Force Base,Ohio—

(1) Civilian deans and professors.

(j) Air Force Logistics Command—

(1) One Supervisory Logistics Management Specialist, GM-346-14, in Detachment 2, 2762 Logistics Management Squadron (Special), Greenville, Texas.

(k) Wright-Patterson AFB, Ohio—

(1) One position of Supervisory Logistics Management Specialist, GS-346-15, in the 2762nd Logistics Squadron (Special), at Wright-Patterson Air Force Base, Ohio.

(l) Air National Guard Readiness Center—

(1) One position of Commander, Air National Guard Readiness Center, Andrews Air Force Base, Maryland.

10. Department of Justice (Sch. A, 213.3110)

(a) General—

(1) Deputy U.S. Marshals employed on an hourly basis for intermittent service.

(2) Positions at GS-15 and below on the staff of an office of a special counsel.

(3)-(5) (Reserved)

(6) Positions of Program Manager and Assistant Program Manager supporting the International Criminal Investigative Training Assistance Program in foreign countries. Initial appointments under this authority may not exceed 2 years, but may be extended in 1-year increments for the duration of the in-country program.

(7) Positions necessary throughout DOJ, for the excepted service transfer of NDIC employees hired under Schedule A, 213.3110(d). Authority expires September 30, 2012.

(b) (Reserved)

(c) Drug Enforcement Administration—

(1) (Reserved)

(2) Four hundred positions of Intelligence Research Agent and/or Intelligence Operation Specialist in the GS-132 series, grades GS-9 through GS-15.

(3) Not to exceed 200 positions of Criminal Investigator (Special Agent). New appointments may be made under this authority only at grades GS-7/11.

(d) (Reserved, moved to Justice)

(e) Bureau of Alcohol, Tobacco, and Firearms—

(1) One hundred positions of Criminal Investigator for special assignments.

(2) One non-permanent Senior Level (SL) Criminal Investigator to serve as a senior advisor to the Assistant Director (Firearms, Explosives, and Arson).

11. Department of Homeland Security (Sch. A, 213.3111)

(a) (Revoked 11/19/2009)

(b) Law Enforcement Policy—

(1) Ten positions for oversight policy and direction of sensitive law enforcement activities.

(c) Homeland Security Labor Relations Board/Homeland Security Mandatory Removal Board—

(1) Up to 15 Senior Level and General Schedule (or equivalent) positions.

(d) General—

(1) Not to exceed 1,000 positions to perform cyber risk and strategic analysis, incident handling and malware/vulnerability analysis, program management, distributed control systems security, cyber incident response, cyber exercise facilitation and management, cyber vulnerability detection and assessment, network and systems engineering, enterprise architecture, intelligence analysis, investigation, investigative analysis and cyber-related infrastructure interdependency analysis requiring unique qualifications currently not established by OPM. Positions will be at the General Schedule (GS) grade levels 09-15. No new appointments may be made under this authority after the completion of regulations implementing the Border Patrol Agency Pay Reform Act of 2014 or January 15, 2019.

(e) Papago Indian Agency—Not to exceed 25 positions of Immigration and Customs Enforcement (ICE) Tactical Officers (Shadow Wolves) in the Papago Indian Agency in the State of Arizona when filled by the appointment of persons of one-fourth or more Indian blood. (Formerly 213.3105(b)(9))

(f) U.S. Citizenship and Immigration Services

(1) Reserved. (Formerly 213.3110(b)(1))

(2) Not to exceed 500 positions of interpreters and language specialists, GS-1040-5/9. (Formerly 213.3110(b)(2))

(3) Reserved. (Formerly 213.3110(b)(3))

(g) U.S. Immigration and Customs Enforcement—

(1) Not to exceed 200 staff positions, GS-15 and below for an emergency staff to provide health related services to foreign entrants. (Formerly 213.3116(b)(16))

(h) Federal Emergency Management Agency—

(1) Field positions at grades GS-15 and below, or equivalent, which are engaged in work directly related to unique response efforts to environmental emergencies not covered by the Disaster Relief Act of 1974, Public Law 93-288, as amended. Employment under this authority may not exceed 36 months on any single emergency. Persons may not be employed under this authority for long-term duties or for work not directly necessitated by the emergency response effort. (Formerly 213.3195(a))

(2) Not to exceed 30 positions at grades GS-15 and below in the Offices of Executive Administration, General Counsel, Inspector General, Comptroller, Public Affairs, Personnel, Acquisition Management, and the State and Local Program and Support Directorate which are engaged in work directly related to unique response efforts to environmental emergencies not covered by the Disaster Relief Act of 1974, Public Law 93-288, as amended. Employment under this authority may not exceed 36 months on any single emergency, or for long-term duties or work not directly necessitated by the emergency response effort. No one may be reappointed under this authority for service in connection with a different emergency unless at least 6 months have elapsed since the individual's latest appointment under this authority. (Formerly 213.3195(b))

(3) Not to exceed 350 professional and technical positions at grades GS-5 through GS-15, or equivalent, in Mobile Emergency Response Support Detachments (MERS). (Formerly 213.3195(c))

(i) U.S. Coast Guard—

(1) Reserved. (Formerly 213.3194(a))

(2) Lamplighters. (Formerly 213.3194(b))

(3) Professors, Associate Professors, Assistant Professors, Instructors, one Principal Librarian, one Cadet Hostess, and one Psychologist (Counseling) at the Coast Guard Academy, New London, Connecticut. (Formerly 213.3194(c))

12. Department of the Interior (Sch. A, 213.3112)

(a) General—

(1) Technical, maintenance, and clerical positions at or below grades GS-7, WG-10, or equivalent, in the field service of the Department of the Interior, when filled by the appointment of persons who are certified as maintaining a permanent and exclusive residence within, or contiguous to, a field activity or district, and as being dependent for livelihood primarily upon employment available within the field activity of the Department.

(2) All positions on Government-owned ships or vessels operated by the Department of the Interior.

(3) Temporary or seasonal caretakers at temporarily closed camps or improved areas to maintain grounds, buildings, or other structures and prevent damages or theft of Government property. Such appointments shall not extend beyond 130 working days a year without the prior approval of OPM.

(4) Temporary, intermittent, or seasonal field assistants at GS-7, or its equivalent, and below in such areas as forestry, range management, soils, engineering, fishery and wildlife management, and with surveying parties. Employment under this authority may not exceed 180 working days a year.

(5) Temporary positions established in the field service of the Department for emergency forest and range fire prevention or suppression and blister rust control for not to exceed 180 working days a year: Provided, that an employee may work as many as 220 working days a year when employment beyond 180 days is required to cope with extended fire seasons or sudden emergencies such as fire, flood, storm, or other unforeseen situations involving potential loss of life or property.

(6) Persons employed in field positions, the work of which is financed jointly by the Department of the Interior and cooperating persons or organizations outside the Federal service.

(7) All positions in the Bureau of Indian Affairs and other positions in the Department of the Interior directly and primarily related to providing services to Indians when filled by the appointment of Indians. The Secretary of the Interior is responsible for defining the term “Indian.”

(8) Temporary, intermittent, or seasonal positions at GS-7 or below in Alaska, as follows: Positions in nonprofessional mining activities, such as those of drillers, miners, caterpillar operators, and samplers. Employment under this authority shall not exceed 180 working days a year and shall be appropriate only when the activity is carried on in a remote or isolated area and there is a shortage of available candidates for the positions.

(9) Temporary, part-time, or intermittent employment of mechanics, skilled laborers, equipment operators, and tradesmen on construction, repair, or maintenance work not to exceed 180 working days a year in Alaska, when the activity is carried on in a remote or isolated area and there is a shortage of available candidates for the positions.

(10) Seasonal airplane pilots and airplane mechanics in Alaska, not to exceed 180 working days a year.

(11) Temporary staff positions in the Youth Conservation Corps Centers operated by the Department of the Interior. Employment under this authority shall not exceed 11 weeks a year except with prior approval of OPM.

(12) Positions in the Youth Conservation Corps for which pay is fixed at the Federal minimum wage rate. Employment under this authority may not exceed 10 weeks.

(b) (Reserved)

(c) Indian Arts and Crafts Board—

(1) The Executive Director

(d) (Reserved)

(e) Office of the Assistant Secretary, Territorial and International Affairs—

(1) (Reserved)

(2) Not to exceed four positions of Territorial Management Interns, grades GS-5, GS-7, or GS-9, when filled by territorial residents who are U.S. citizens from the Virgin Islands or Guam; U.S. nationals from American Samoa; or in the case of the Northern Marianas, will become U.S. citizens upon termination of the U.S. trusteeship. Employment under this authority may not exceed 6 months.

(3) (Reserved)

(4) Special Assistants to the Governor of American Samoa who perform specialized administrative, professional, technical, and scientific duties as members of his or her immediate staff.

(f) National Park Service—

(1) (Reserved)

(2) Positions established for the administration of Kalaupapa National Historic Park, Molokai, Hawaii, when filled by appointment of qualified patients and Native Hawaiians, as provided by Public Law 95-565.

(3) Seven full-time permanent and 31 temporary, part-time, or intermittent positions in the Redwood National Park, California, which are needed for rehabilitation of the park, as provided by Public Law 95-250.

(4) One Special Representative of the Director.

(5) All positions in the Grand Portage National Monument, Minnesota, when filled by the appointment of recognized members of the Minnesota Chippewa Tribe.

(g) Bureau of Reclamation—

(1) Appraisers and examiners employed on a temporary, intermittent, or part-time basis on special valuation or prospective-entrymen-review projects where knowledge of local values on conditions or other specialized qualifications not possessed by regular Bureau employees are required for successful results. Employment under this provision shall not exceed 130 working days a year in any individual case: Provided, that such employment may, with prior approval of OPM, be extended for not to exceed an additional 50 working days in any single year.

(h) Office of the Deputy Assistant Secretary for Territorial Affairs—

(1) Positions of Territorial Management Interns, GS-5, when filled by persons selected by the Government of the Trust Territory of the Pacific Islands. No appointment may extend beyond 1 year.

13. Department of Agriculture (Sch. A, 213.3113)

(a) General—

(1) Agents employed in field positions the work of which is financed jointly by the Department and cooperating persons, organizations, or governmental agencies outside the Federal service. Except for positions for which selection is jointly made by the Department and the cooperating organization, this authority is not applicable to positions in the Agricultural Research Service or the National Agricultural Statistics Service. This authority is not applicable to the following positions in the Agricultural Marketing Service: Agricultural commodity grader (grain) and (meat), (poultry), and (dairy), agricultural commodity aid (grain), and tobacco inspection positions.

(2)-(4) (Reserved)

(5) Temporary, intermittent, or seasonal employment in the field service of the Department in positions at and below GS-7 and WG-10 in the following types of positions: Field assistants for sub professional services; agricultural helpers, helper-leaders, and workers in the Agricultural Research Service and the Animal and Plant Health Inspection Service; and subject to prior OPM approval granted in the calendar year in which the appointment is to be made, other clerical, trades, crafts, and manual labor positions. Total employment under this subparagraph may not exceed 180 working days in a service year: Provided, that an employee may work as many as 220 working days in a service year when employment beyond 180 days is required to cope with extended fire seasons or sudden emergencies such as fire, flood, storm, or other unforeseen situations involving potential loss of life or property. This paragraph does not cover trades, crafts, and manual labor positions covered by paragraph (i) of Sec. 213.3102 or positions within the Forest Service.

(6)-(7) (Reserved)

(b)-(c) (Reserved)

(d) Farm Service Agency—

(1) (Reserved)

(2) Members of State Committees: Provided, that employment under this authority shall be limited to temporary intermittent (WAE) positions whose principal duties involve administering farm programs within the State consistent with legislative and Departmental requirements and reviewing national procedures and policies for adaptation at State and local levels within established parameters. Individual appointments under this authority are for 1 year and may be extended only by the Secretary of Agriculture or his designee. Members of State Committees serve at the pleasure of the Secretary.

(e) Rural Development—

(1) (Reserved)

(2) County committeemen to consider, recommend, and advise with respect to the Rural Development program.

(3)-(5) (Reserved)

(6) Professional and clerical positions in the Trust Territory of the Pacific Islands when occupied by indigenous residents of the Territory to provide financial assistance pursuant to current authorizing statutes.

(f) Agricultural Marketing Service—

(1) Positions of Agricultural Commodity Graders, Agricultural Commodity Technicians, and Agricultural Commodity Aids at grades GS-9 and below in the tobacco, dairy, and poultry commodities; Meat Acceptance Specialists, GS-11 and below; Clerks, Office Automation Clerks, and Computer Clerks at GS-5 and below; Clerk-Typists at grades GS-4 and below; and Laborers under the Wage System. Employment under this authority is limited to either 1,280 hours or 180 days in a service year.

(2) Positions of Agricultural Commodity Graders, Agricultural Commodity Technicians, and Agricultural Commodity Aids at grades GS-11 and below in the cotton, raisin, peanut, and processed and fresh fruit and vegetable commodities and the following positions in support of these commodities: Clerks, Office Automation Clerks, and Computer Clerks and Operators at GS-5 and below; Clerk-Typists at grades GS-4 and below; and, under the Federal Wage System, High Volume Instrumentation (HVI) Operators and HVI Operator Leaders at WG/WL-2 and below, respectively, Instrument Mechanics/Workers/Helpers at WG-10 and below, and Laborers. Employment under this authority may not exceed 180 days in a service year. In unforeseen situations such as bad weather or crop conditions, unanticipated plant demands, or increased imports, employees may work up to 240 days in a service year. Cotton Agricultural Commodity Graders, GS-5, may be employed as trainees for the first appointment for an initial period of 6 months for training without regard to the service year limitation.

(3) Milk Market Administrators

(4) All positions on the staffs of the Milk Market Administrators.

(g)-(k) (Reserved)

(l) Food Safety and Inspection Service—

(1)-(2) (Reserved)

(3) Positions of Meat and Poultry Inspectors (Veterinarians at GS-11 and below and non-Veterinarians at appropriate grades below GS-11) for employment on a temporary, intermittent, or seasonal basis, not to exceed 1,280 hours a year.

(m) Grain Inspection, Packers and Stockyards Administration—

(1) One hundred and fifty positions of Agricultural Commodity Aid (Grain), GS-2/4; 100 positions of Agricultural Commodity Technician (Grain), GS-4/7; and 60 positions of Agricultural Commodity Grader (Grain), GS-5/9, for temporary employment on a part-time, intermittent, or seasonal basis not to exceed 1,280 hours in a service year.

(n) Alternative Agricultural Research and Commercialization Corporation—

(1) Executive Director

14. Department of Commerce (Sch. A, 213.3114)

(a) General—

(1)-(2) (Reserved)

(3) Not to exceed 50 scientific and technical positions whose duties are performed primarily in the Antarctic. Incumbents of these positions may be stationed in the continental United States for periods of orientation, training, analysis of data, and report writing.

(b)-(c) (Reserved)

(d) Bureau of the Census—

(1) Managers, supervisors, technicians, clerks, interviewers, and enumerators in the field service, for time-limited employment to conduct a census.

(2) Current Program Interviewers employed in the field service.

(e)-(h) (Reserved)

(i) Office of the Under Secretary for International Trade—

(1) Fifteen positions at GS-12 and above in specialized fields relating to international trade or commerce in units under the jurisdiction of the Under Secretary for International Trade. Incumbents will be assigned to advisory rather than to operating duties, except as operating and administrative responsibility may be required for the conduct of pilot studies or special projects. Employment under this authority will not exceed 2 years for an individual appointee.

(2) (Reserved)

(3) Not to exceed 15 positions in grades GS-12 through GS-15, to be filled by persons qualified as industrial or marketing specialists; who possess specialized knowledge and experience in industrial production, industrial operations and related problems, market structure and trends, retail and wholesale trade practices, distribution channels and costs, or business financing and credit procedures applicable to one or more of the current segments of U.S. industry served by the Under Secretary for International Trade, and the subordinate components of his organization which are involved in Domestic Business matters. Appointments under this authority may be made for a period not to exceed 2 years and may, with prior OPM approval, be extended for an additional 2 years.

(j) National Oceanic and Atmospheric Administration—

(1)-(2) (Reserved)

(3) All civilian positions on vessels operated by the National Ocean Service.

(4) Temporary positions required in connection with the surveying operations of the field service of the National Ocean Service. Appointment to such positions shall not exceed 8 months in any 1 calendar year.

(k) (Reserved)

(l) National Telecommunication and Information Administration—

(1) Thirty-eight professional positions in grades GS-13 through GS-15.

15. Department of Labor (Sch. A, 213.3115)

(a) Office of the Secretary—

(1) Chairman and five members, Employees' Compensation Appeals Board.

(2) Chairman and eight members, Benefits Review Board.

(b)-(c) (Reserved)

(d) Employment and Training Administration—

(1) Not to exceed 10 positions of Supervisory Manpower Development Specialist and Manpower Development Specialist, GS-7/15, in the Division of Indian and Native American Programs, when filled by the appointment of persons of one-fourth or more Indian blood. These positions require direct contact with Indian tribes and communities for the development and administration of comprehensive employment and training programs.

16. Department of Health and Human Services (Sch. A, 213.3116)

(a) General—

(1) Intermittent positions, at GS-15 and below and WG-10 and below, on teams under the National Disaster Medical System including Disaster Medical Assistance Teams and specialty teams, to respond to disasters, emergencies, and incidents/events involving medical, mortuary and public health needs.

(b) Public Health Service—

(1) (Reserved)

(2) Positions at Government sanatoria when filled by patients during treatment or convalescence.

(3) (Reserved)

(4) Positions concerned with problems in preventive medicine financed or participated in by the Department of Health and Human Services and a cooperating State, county, municipality, incorporated organization, or an individual in which at least one-half of the expense is contributed by the participating agency either in salaries, quarters, materials, equipment, or other necessary elements in the carrying on of the work.

(5)-(6) (Reserved)

(7) Not to exceed 50 positions associated with health screening programs for refugees.

(8) All positions in the Public Health Service and other positions in the Department of Health and Human Services directly and primarily related to providing services to Indians when filled by the appointment of Indians. The Secretary of Health and Human Services is responsible for defining the term “Indian.”

(9) (Reserved)

(10) Health care positions of the National Health Service Corps for employment of any one individual not to exceed 4 years of service in health manpower shortage areas.

(11)-(15) (Reserved)

(c)-(e) (Reserved)

(f) The President's Council on Physical Fitness—

(1) Four staff assistants.

17. Department of Education (Sch. A, 213.3117)

(a) Positions concerned with problems in education financed and participated in by the Department of Education and a cooperating State educational agency, or university or college, in which there is joint responsibility for selection and supervision of employees, and at least one-half of the expense is contributed by the cooperating agency in salaries, quarters, materials, equipment, or other necessary elements in the carrying on of the work.

18. Environmental Protection Agency (Sch. A, 213.3118)

24. Board of Governors, Federal Reserve System (Sch. A, 213.3124)

(a) All positions

27. Department of Veterans Affairs (Sch. A, 213.3127)

(a) Construction Division—

(1) Temporary construction workers paid from “purchase and hire” funds and appointed for not to exceed the duration of a construction project.

(b) Alcoholism Treatment Units and Drug Dependence Treatment Centers—

(1) Not to exceed 400 positions of rehabilitation counselors, GS-3 through GS-11, in Alcoholism Treatment Units and Drug Dependence Treatment Centers, when filled by former patients.

(c) Board of Veterans' Appeals—

(1) Positions, GS-15, when filled by a member of the Board. Except as provided by section 201(d) of Public Law 100-687, appointments under this authority shall be for a term of 9 years, and may be renewed.

(2) Positions, GS-15, when filled by a non-member of the Board who is awaiting Presidential approval for appointment as a Board member.

(d) Vietnam Era Veterans Readjustment Counseling Service—

(1) Not to exceed 600 positions at grades GS-3 through GS-11, involved in the Department's Vietnam Era Veterans Readjustment Counseling Service.

(e) Not to Exceed 75 positions that require unique technical skills needed for the re-designing and re-building of digital interfaces between citizens, businesses, and government as a part of Smarter Information Technology Delivery Initiative. This authority may be used to make permanent, time-limited and temporary appointments to non-supervisory Digital Services Expert positions (GS-301) directly related to the implementation of the Smarter Information Technology Delivery Initiative at the GS-15 level. No new appointments may be made under this authority after September 30, 2017.

32. Small Business Administration (Sch. A, 213.3132)

(a) When the President under 42 U.S.C. 1855-1855g, the Secretary of Agriculture under 7 U.S.C. 1961, or the Small Business Administration under 15 U.S.C. 636(b)(1) declares an area to be a disaster area, positions filled by time-limited appointment of employees to make and administer disaster loans in the area under the Small Business Act, as amended. Service under this authority may not exceed 4 years, and no more than 2 years may be spent on a single disaster. Exception to this time limit may only be made with prior Office of Personnel Management approval. Appointments under this authority may not be used to extend the 2-year service limit contained below. No one may be appointed under this authority to positions engaged in long-term maintenance of loan portfolios.

(b) When the President under 42 U.S.C. 1855-1855g, the Secretary of Agriculture under 7 U.S.C. 1961, or the Small Business Administration under 15 U.S.C. 636(b)(1) declares an area to be a disaster area, positions filled by time-limited appointment of employees to make and administer disaster loans in that area under the Small Business Act, as amended. No one may serve under this authority for more than an aggregate of 2 years without a break in service of at least 6 months. Persons who have had more than 2 years of service under paragraph (a) of this section must have a break in service of at least 8 months following such service before appointment under this authority. No one may be appointed under this authority to positions engaged in long-term maintenance of loan portfolios.

33. Federal Deposit Insurance Corporation (Sch. A, 213.3133)

(a)-(b) (Reserved)

(c) Temporary or time-limited positions that are directly related with resolving failing insured depository institutions; financial companies; or brokers and dealers; covered by the Dodd-Frank Wall Street Reform and Consumer Protection Act, including but not limited to, the marketing and sale of institutions and any associated assets; paying insured depositors; and managing receivership estates and all associated receivership management activities, up to termination. Time limited appointments under this authority may not exceed 7 years.

36. U.S. Soldiers' and Airmen's Home (Sch. A, 213.3136)

(a) (Reserved)

(b) Positions when filled by member-residents of the Home.

37. General Services Administration (Sch. A, 213.3137)

(a) Not to Exceed 203 positions that require unique technical skills needed for the re-designing and re-building of digital interfaces between citizens, businesses, and government as a part of Smarter Information Technology Delivery Initiative. This authority may be used nationwide to make permanent, time-limited and temporary appointments to Digital Services Expert positions (GS-301) directly related to the implementation of the Smarter Information Technology Delivery Initiative at the GS-11 to 15 level. No new appointments may be made under this authority after September 30, 2017.

46. Selective Service System (Sch. A, 213.3146)

(a) State Directors

48. National Aeronautics and Space Administration (Sch. A, 213.3148)

(a) One hundred and fifty alien scientists having special qualifications in the fields of aeronautical and space research where such employment is deemed by the Administrator of the National Aeronautics and Space Administration to be necessary in the public interest.

55. Social Security Administration (Sch. A, 213.3155)

(a) Arizona District Offices—

(1) Six positions of Social Insurance Representative in the district offices of the Social Security Administration in the State of Arizona when filled by the appointment of persons of one-fourth or more Indian blood.

(b) New Mexico—

(1) Seven positions of Social Insurance Representative in the district offices of the Social Security Administration in the State of New Mexico when filled by the appointment of persons of one-fourth or more Indian blood.

(c) Alaska—

(1) Two positions of Social Insurance Representative in the district offices of the Social Security Administration in the State of Alaska when filled by the appointments of persons of one-fourth or more Alaskan Native blood (Eskimos, Indians, or Aleuts).

62. The President's Crime Prevention Council (Sch. A, 213.3162)

(a) (Reserved)

65. Chemical Safety and Hazard Investigation Board (Sch. A, 213.3165)

(a) (Reserved)

(b) (Reserved)

66. Court Services and Offender Supervision Agency of the District of Columbia (Sch. A, 213.3166)

(a) (Reserved, expired 3/31/2004)

70. Millennium Challenge Corporation (MCC) (Sch. A, 213.3170)

(a) (Reserved, expired 9/30/2007)

(b)

(1) Positions of Resident Country Directors and Deputy Resident Country Directors. The length of appointments will correspond to the length or term of the compact agreements made between the MCC and the country in which the MCC will work, plus one additional year to cover pre- and post-compact agreement related activities.

74. Smithsonian Institution (Sch. A, 213.3174)

(a) (Reserved)

(b) Smithsonian Tropical Research Institute—All positions located in Panama which are part of or which support the Smithsonian Tropical Research Institute.

(c) National Museum of the American Indian—Positions at GS-15 and below requiring knowledge of, and experience in, tribal customs and culture. Such positions comprise approximately 10 percent of the Museum's positions and, generally, do not include secretarial, clerical, administrative, or program support positions.

75. Woodrow Wilson International Center for Scholars (Sch. A, 213.3175)

(a) One Asian Studies Program Administrator, one International Security Studies Program Administrator, one Latin American Program Administrator, one Russian Studies Program Administrator, two Social Science Program Administrators, one Middle East Studies Program Administrator, one African Studies Program Administrator, one Global Sustainability and Resilience Program Administrator, one Canadian Studies Program Administrator; one China Studies Program Administrator, and one Science, Technology and Innovation Program Administrator.

78. Community Development Financial Institutions Fund (Sch. A, 213.3178)

(a) (Reserved, expired 9/23/1998)

80. Utah Reclamation and Conservation Commission (Sch. A, 213.3180)

(a) Executive Director

82. National Foundation on the Arts and the Humanities (Sch. A, 213.3182)

(a) National Endowment for the Arts—

(1) Artistic and related positions at grades GS-13 through GS-15 engaged in the review, evaluation and administration of applications and grants supporting the arts, related research and assessment, policy and program development, arts education, access programs and advocacy, or evaluation of critical arts projects and outreach programs. Duties require artistic stature, in-depth knowledge of arts disciplines and/or artistic-related leadership qualities.

90. African Development Foundation (Sch. A, 213.3190)

(a) One Enterprise Development Fund Manager. Appointment is limited to four years unless extended by OPM.

91. Office of Personnel Management (Sch. A, 213.3191)

(a)-(c) (Reserved)

(d) Part-time and intermittent positions of test examiners at grades GS-8 and below.

94. Department of Transportation (Sch. A, 213.3194)

(a)-(d) (Reserved)

(e) Maritime Administration—

(1)-(2) (Reserved)

(3) All positions on Government-owned vessels or those bareboats chartered to the Government and operated by or for the Maritime Administration.

(4)-(5) (Reserved)

(6) U.S. Merchant Marine Academy, positions of: Professors, Instructors, and Teachers, including heads of Departments of Physical Education and Athletics, Humanities, Mathematics and Science, Maritime Law and Economics, Nautical Science, and Engineering; Coordinator of Shipboard Training; the Commandant of Midshipmen, the Assistant Commandant of Midshipmen; Director of Music; three Battalion Officers; three Regimental Affairs Officers; and one Training Administrator.

(7) U.S. Merchant Marine Academy positions of: Associate Dean; Registrar; Director of Admissions; Assistant Director of Admissions; Director, Office of External Affairs; Placement Officer; Administrative Librarian; Shipboard Training Assistant; three Academy Training Representatives; and one Education Program Assistant.

(f) Up to 40 positions at the GS-13 through 15 grade levels and within authorized SL allocations necessary to support the following credit agency programs of the Department: The Federal Highway Administration's Transportation Infrastructure Finance and Innovation Act Program, the Federal Railroad Administration's Railroad Rehabilitation and Improvement Financing Program, the Federal Maritime Administration's Title XI Program, and the Office of the Secretary's Office of Budget and Programs Credit Staff. This authority may be used to make temporary, time-limited, or permanent appointments, as the DOT deems appropriate, in the following occupational series: Director or Deputy Director SL-301/340, Origination Team Lead SL-301, Deputy Director/Senior Financial Analyst GS-1160, Origination Financial Policy Advisor GS-301, Credit Budgeting Team Lead GS-1160, Credit Budgeting Financial Analysts GS-1160, Portfolio Monitoring Lead SL-1160, Portfolio Monitoring Financial Analyst GS-1160, Financial Analyst GS-1160. No new appointments may be made under this authority after December 31, 2014.

95. (Reserved)

Schedule B

03. Executive Office of the President (Sch. B, 213.3203)

(a) (Reserved)

(b) Office of the Special Representative for TradeNegotiations—

(1) Seventeen positions of economist at grades GS-12 through GS-15.

04. Department of State (Sch. B, 213.3204)

(a)(1) One non-permanent senior level position to serve as Science and Technology Advisor to the Secretary.

(b)-(c) (Reserved)

(d) Seventeen positions on the household staff of the President's Guest House (Blair and Blair-Lee Houses).

(e) (Reserved)

(f) Scientific, professional, and technical positions at grades GS-12 to GS-15 when filled by persons having special qualifications in foreign policy matters. Total employment under this authority may not exceed 4 years.

05. Department of the Treasury (Sch. B, 213.3205)

(a) Positions of Deputy Comptroller of the Currency, Chief National Bank Examiner, Assistant Chief National Bank Examiner, Regional Administrator of National Banks, Deputy Regional Administrator of National Banks, Assistant to the Comptroller of the Currency, National Bank Examiner, Associate National Bank Examiner, and Assistant National Bank Examiner, whose salaries are paid from assessments against national banks and other financial institutions.

(b)-(c) (Reserved)

(d) (Reserved) Transferred to 213.3211(b)

(e) (Reserved) Transferred to 213.3210(f)

06. Department of Defense (Sch. B, 213.3206)

(a) Office of the Secretary—

(1) (Reserved)

(2) Professional positions at GS-11 through GS-15 involving systems, costs, and economic analysis functions in the Office of the Assistant Secretary (Program Analysis and Evaluation); and in the Office of the Deputy Assistant Secretary (Systems Policy and Information) in the Office of the Assistant Secretary (Comptroller).

(3)-(4) (Reserved)

(5) Four Net Assessment Analysts.

(b) Interdepartmental activities—

(1) Seven positions to provide general administration, general art and information, photography, and/or visual information support to the White House Photographic Service.

(2) Eight positions, GS-15 or below, in the White House Military Office, providing support for airlift operations, special events, security, and/or administrative services to the Office of the President.

(c) National Defense University—

(1) Sixty-one positions of Professor, GS-13/15, for employment of any one individual on an initial appointment not to exceed 3 years, which may be renewed in any increment from 1 to 6 years indefinitely thereafter.

(d) General—

(1) One position of Law Enforcement Liaison Officer (Drugs), GS-301-15, U.S. European Command.

(2) Acquisition positions at grades GS-5 through GS-11, whose incumbents have successfully completed the required course of education as participants in the Department of Defense scholarship program authorized under 10 U.S.C. 1744.

(e) Office of the Inspector General—

(1) Positions of Criminal Investigator, GS-1811-5/15.

(f) Department of Defense Polygraph Institute, Fort McClellan, Alabama—

(1) One Director, GM-15.

(g) Defense Security Assistance Agency—

All faculty members with instructor and research duties at the Defense Institute of Security Assistance Management, Wright Patterson Air Force Base, Dayton, Ohio. Individual appointments under this authority will be for an initial 3-year period, which may be followed by an appointment of indefinite duration.

07. Department of the Army (Sch. B, 213.3207)

(a) U.S. Army Command and General Staff College—

(1) Seven positions of professors, instructors, and education specialists. Total employment of any individual under this authority may not exceed 4 years.

08. Department of the Navy (Sch. B, 213.3208)

(a) Naval Underwater Systems Center, New London, Connecticut—

(1) One position of Oceanographer, grade GS-14, to function as project director and manager for research in the weapons systems applications of ocean eddies.

(b) Armed Forces Staff College, Norfolk, Virginia—All civilian faculty positions of professors, instructors, and teachers on the staff of the Armed Forces Staff College, Norfolk, Virginia.

(c) Defense Personnel Security Research and Education Center—One Director and four Research Psychologists at the professor or GS-15 level.

(d) Marine Corps Command and Staff College—All civilian professor positions.

(e) Executive Dining facilities at the Pentagon—One position of Staff Assistant, GS-301, whose incumbent will manage the Navy's Executive Dining facilities at the Pentagon.

(f) (Reserved)

09. Department of the Air Force (Sch. B, 213.3209)

(a) Air Research Institute at the Air University, Maxwell Air Force Base, Alabama—Not to exceed four interdisciplinary positions for the Air Research Institute at the Air University, Maxwell Air Force Base, Alabama, for employment to complete studies proposed by candidates and acceptable to the Air Force. Initial appointments are made not to exceed 3 years, with an option to renew or extend the appointments in increments of 1-, 2-, or 3- years indefinitely thereafter.

(b)-(c) (Reserved)

(d) Air University—Positions of Instructor or professional academic staff at the Air University associated with courses of instruction of varying durations, for employment not to exceed 3 years, which may be renewed for an indefinite period thereafter.

(e) U.S. Air Force Academy, Colorado—One position of Director of Development and Alumni Programs, GS-301-13.

10. Department of Justice (Sch. B, 213.3210)

(a) Drug Enforcement Administration—

Criminal Investigator (Special Agent) positions in the Drug Enforcement Administration. New appointments may be made under this authority only at grades GS-5 through 11. Service under the authority may not exceed 4 years. Appointments made under this authority may be converted to career or career-conditional appointments under the provisions of Executive Order 12230, subject to conditions agreed upon between the Department and OPM.

(b) (Reserved)

(c) Not to exceed 400 positions at grades GS-5 through 15 assigned to regional task forces established to conduct special investigations to combat drug trafficking and organized crime.

(d) (Reserved)

(e) United States Trustees—Positions, other than secretarial, GS-6 through GS-15, requiring knowledge of the bankruptcy process, on the staff of the offices of United States Trustees or the Executive Office for U.S. Trustees.

(f) Bureau of Alcohol, Tobacco, and Firearms—

(1) Positions, grades GS-5 through GS-12 (or equivalent), of Criminal Investigator. Service under this authority may not exceed 3 years and 120 days.

11. Department of Homeland Security (Sch. B, 213.3211)

(a) Coast Guard—

(1) (Reserved)

(b) Secret Service—Positions concerned with the protection of the life and safety of the President and members of his immediate family, or other persons for whom similar protective services are prescribed by law, when filled in accordance with special appointment procedures approved by OPM. Service under this authority may not exceed:

(1) a total of 4 years; or

(2) 120 days following completion of the service required for conversion under Executive Order 11203.

13. Department of Agriculture (Sch. B, 213.3213)

(a) Foreign Agricultural Service—

(1) Positions of a project nature involved in international technical assistance activities. Service under this authority may not exceed 5 years on a single project for any individual unless delayed completion of a project justifies an extension up to but not exceeding 2 years.

(b) General—

(1) Temporary positions of professional Research Scientists, GS-15 or below, in the Agricultural Research Service, Economic Research Service, and the Forest Service, when such positions are established to support the Research Associateship Program and are filled by persons having a doctoral degree in an appropriate field of study for research activities of mutual interest to appointees and the agency. Appointments are limited to proposals approved by the appropriate Administrator. Appointments may be made for initial periods not to exceed 2 years and may be extended for up to 2 additional years. Extensions beyond 4 years, up to a maximum of 2 additional years, may be granted, but only in very rare and unusual circumstances, as determined by the Human Resources Officer for the Research, Education, and Economics Mission Area, or the Human Resources Officer, Forest Service.

(2) Not to exceed 55 Executive Director positions, GM-301-14/15, with the State Rural Development Councils in support of the Presidential Rural Development Initiative.

14. Department of Commerce (Sch. B, 213.3214)

(a) Bureau of the Census—

(1) (Reserved)

(2) Not to exceed 50 Community Services Specialist positions at the equivalent of GS-5 through 12.

(b)-(c) (Reserved)

(d) National Telecommunications and Information Administration—

(1) Not to exceed 10 Telecommunications Policy Analysts, grades GS-11 through 15. Employment under this authority may not exceed 2 years.

15. Department of Labor (Sch. B, 213.3215)

(a) Administrative Review Board—Chair and a maximum of four additional Members.

(b) (Reserved)

(c) Bureau of International Labor Affairs—

(1) Positions in the Office of Foreign Relations, which are paid by outside funding sources under contracts for specific international labor market technical assistance projects. Appointments under this authority may not be extended beyond the expiration date of the project.

17. Department of Education (Sch. B, 213.3217)

(a) Seventy-five positions, not to exceed GS-13, of a professional or analytical nature when filled by persons, other than college faculty members or candidates working toward college degrees, who are participating in mid-career development programs authorized by Federal statute or regulation, or sponsored by private nonprofit organizations, when a period of work experience is a requirement for completion of an organized study program. Employment under this authority shall not exceed 1 year.

(b) Fifty positions, GS-7 through GS-11, concerned with advising on education policies, practices, and procedures under unusual and abnormal conditions. Persons employed under this provision must be bona fide elementary school and high school teachers. Appointments under this authority may be made for a period of not to exceed 1 year, and may, with the prior approval of the Office of Personnel Management, be extended for an additional period of 1 year.

27. Department of Veterans Affairs (Sch. B, 213.3227)

(a) Not to exceed 800 principal investigatory, scientific, professional, and technical positions at grades GS-11 and above in the medical research program.

(b) Not to exceed 25 Criminal Investigator (Undercover) positions, GS-1811, in grades 5 through 12, conducting undercover investigations in the Veterans Health Administration (VA) supervised by the VA, Office of Inspector General. Initial appointments shall be greater than 1 year, but not to exceed 4 years and may be extended indefinitely in 1-year increments.

28. Broadcasting Board of Governors (Sch. B, 213.3228)

(a) International Broadcasting Bureau—

(1) Not to exceed 200 positions at grades GS-15 and below in the Office of Cuba Broadcasting. Appointments may not be made under this authority to administrative, clerical, and technical support positions.

36. U.S. Soldiers' and Airmen's Home (Sch. B, 213.3236)

(a) (Reserved)

(b) Director, Health Care Services; Director, Member Services; Director, Logistics; and Director, Plans and Programs.

40. National Archives and Records Administration (Sch. B, 213.3240)

(a) Executive Director, National Historical Publications and Records Commission.

48. National Aeronautics and Space Administration (Sch. B, 213.3248)

(a) Not to exceed 40 positions of Astronaut Candidates at grades GS-11 through 15. Employment under this authority may not exceed 3 years.

50. Consumer Financial Protection Bureau (Sch. B, 213.3250)

(a) One position of Deputy Director; and one position of Associate Director of the Division of Supervision, Enforcement, and Fair Lending.

55. Social Security Administration (Sch. B, 213.3255)

(a) (Reserved)

74. Smithsonian Institution (Sch. B, 213.3274)

(a) (Reserved)

(b) Freer Gallery of Art—

(1) Not to exceed four Oriental Art Restoration Specialists at grades GS-9 through GS-15.

76. Appalachian Regional Commission (Sch. B, 213.3276)

(a) Two Program Coordinators.

78. Armed Forces Retirement Home (Sch. B, 213.3278)

(a) Naval Home, Gulfport, Mississippi—

(1) One Resource Management Officer position and one Public Works Officer position, GS/GM-15 and below.

82. National Foundation on the Arts and the Humanities (Sch. B, 213.3282)

(a) (Reserved)

(b) National Endowment for the Humanities—

(1) Professional positions at grades GS-11 through GS-15 engaged in the review, evaluation, and administration of grants supporting scholarship, education, and public programs in the humanities, the duties of which require in-depth knowledge of a discipline of the humanities.

91. Office of Personnel Management (Sch. B, 213.3291)

(a) Not to exceed eight positions of Associate Director at the Executive Seminar Centers at grades GS-13 and GS-14. Appointments may be made for any period up to 3 years and may be extended without prior approval for any individual. Not more than half of the authorized faculty positions at any one Executive Seminar Center may be filled under this authority.

(b) Federal Executive Institute—No more than 57 positions of faculty members at grades GS-13 through GS-15. Initial appointments under this authority may be made for any period up to 3 years and may be extended in 1, 2, or 3 year increments.

Schedule C

Agency name | Organization name | Position title | Authorization No. | Effective date
DEPARTMENT OF AGRICULTURE | Office of Agricultural Marketing Service | Confidential Assistant | DA170154 | 03/28/2017
| Office of Assistant Secretary and Director General for United States and Foreign Commercial Service | Senior Advisor | DC160210 | 10/13/2016
| Office of Assistant Secretary for Global Markets | Special Advisor for Select United States of America | DC170147 | 05/22/2017
| Office of Assistant Secretary for Industry and Analysis | Director, Office of Advisory Committees and Industry Outreach | DC170008 | 10/28/2016
|  | Senior Advisor | DC170006 | 10/28/2016
|  | Special Assistant | DC160180 | 07/15/2016
| Office of Assistant Secretary Legislative and Intergovernmental Affairs | Associate Director for Intergovernmental Affairs Associate Director for Legislative Affairs | DC170073 DC170080 | 03/31/2017 03/14/2017
|  | Legislative Affairs Specialist | DC170133 | 06/06/2017
| Office of Broadcasting Board of Governors | Special Communications Advisor | IB170002 | 04/25/2017
| Office of Bureau of Industry and Security | Chief of Staff Congressional Affairs Specialist | DC170007 DC170114 | 10/27/2016 04/21/2017
| Office of Director General of the United States and Foreign Commercial Service and Assistant Secretary for Global Markets | Director of Outreach Senior Advisor Special Advisor | DC170100 DC170134 DC160209 | 05/17/2017 06/06/2017 10/04/2016
| Office of Economic Development Administration | Confidential Assistant Senior Advisor (2) | DC170101 DC160195 DC160166 | 04/06/2017 08/17/2016 07/07/2016
|  | Special Advisor | DC170063 | 04/14/2017
| Office of Farm Service Agency | Confidential Assistant | DA170131 | 03/28/2017
|  | Special Assistant | DA160164 | 03/30/2017
| Office of Foreign Agricultural Service | Confidential Assistant Speechwriter & Communications Advisor | DA170133 DA160169 | 03/30/2017 03/31/2017
| Immediate Office | Senior Advisor | DC170056 | 02/27/2017
| Office of International Trade Administration | Confidential Assistant (2) | DC170116 DC170118 | 05/02/2017 05/12/2017
|  | Senior Advisor (2) | DC170085 | 04/20/2017
|  | Senior Advisor for Budget and Administration | DC170111 DC170089 | 05/04/2017 04/19/2017
| Office of Minority Business Development Agency | Special Advisor for Business Development | DC170093 | 03/28/2017
|  | Special Assistant | DC170054 | 06/21/2017
| Office of Natural Resources Conservation Service | Confidential Assistant | DA170126 | 04/12/2017
| Office of Business Liaison | Deputy Director | DC160186 | 08/04/2016
|  | Special Assistant (3) | DC170069 | 03/22/2017
|  |  | DC170082 | 03/28/2017
|  |  | DC170107 | 04/14/2017
| Office of Communications | Advance Associate | DA160178 | 05/02/2017
|  | Deputy Director (Press Secretary) | DA170138 | 04/12/2017
|  | Deputy Press Secretary (2) | DA170141 | 04/12/2017
|  |  | DA160176 | 04/14/2017
|  | Press Assistant (2) | DA170153 | 04/14/2017
|  |  | DA160166 | 04/14/2017
BROADCASTING BOARD OF GOVERNORS | Office of Communications | Staff Assistant | DA170142 | 04/12/2017
DEPARTMENT OF COMMERCE | Office of the Under Secretary for Research, Education and Economics | Confidential Assistant | DA160173 | 09/26/2016
| Office of Executive Secretariat | Associate Director, Office of Executive Secretariat | DC170067 | 03/28/2017
|  | Associate Director, Office of the Executive Secretariat | DC160184 | 08/04/2016
|  | Confidential Assistant (2) | DC170137 | 06/15/2017
|  |  | DC170009 | 11/09/2016
|  | Deputy Director | DC170001 | 10/12/2016
| Office of Legislative and Intergovernmental Affairs | Director of Intergovernmental Affairs | DC170148 | 04/12/2017
| Office of Policy and Strategic Planning | Policy Assistant Senior Policy Advisor | DC170105 DC170108 | 04/14/2017 05/05/2017
| Office of Public Affairs | Deputy Director of Public Affairs and Press Secretary | DC170066 | 03/23/2017
|  | Deputy Director of Speechwriting | DC170075 | 03/27/2017
|  | Director of Digital Strategy | DC170145 | 06/20/2017
|  | Press Assistant (2) | DC170057 | 03/22/2017
|  |  | DC160197 | 07/28/2016
|  | Senior Public Affairs Coordinator | DC170052 | 03/06/2017
|  | Senior Speechwriter and Press Assistant | DC170071 | 03/31/2017
| Office of Scheduling and Advance | Deputy Director of Advance | DC170079 | 03/24/2017
|  | Director of Scheduling and Special Advisor | DC160196 | 08/17/2016
|  | Scheduling and Advance Assistant | DC160203 | 09/29/2016
|  | Senior Advisor | DC160185 | 08/04/2016
| Office of the Assistant Secretary for Administration | Chief of Staff | DA160151 | 05/03/2017
| Office of the Assistant Secretary for Congressional Relations | Deputy Director for Intergovernmental Affairs | DA170145 | 05/04/2017
|  | Director of Intergovernmental Affairs | DA170151 | 05/05/2017
|  | Legislative Analyst (2) | DA170129 | 05/04/2017
|  |  | DA170125 | 05/03/2017
|  | Legislative Director | DA160128 | 05/16/2017
|  | Policy Advisor (2) | DA170150 | 05/04/2017
|  |  | DA170167 | 05/12/2017
| Office of the Assistant Secretary for Export Administration | Senior Advisor | DC170129 | 05/23/2017
| Office of the Chief Financial Officer | Chief of Staff | DA160153 | 05/17/2017
| Office of the Chief Financial Officer and Assistant Secretary for Administration | Special Assistant for Administration | DC160181 | 07/21/2016
| Office of the Chief of Staff | Advance Assistant | DC170081 | 04/14/2017
|  | Confidential Assistant | DC170062 | 03/22/2017
|  | Director of Advance and Protocol (2) | DC170115 DC180013 | 06/16/2017 06/16/2017
|  | Director of Scheduling | DC170083 | 03/28/2017
|  | Program Manager, Office of Faith Based and Neighborhood Partnerships | DC170097 | 04/06/2017
|  | Scheduling Assistant | DC170139 | 06/21/2017
|  | Special Advisor | DC160191 | 08/05/2016
|  | Special Assistant | DC170124 | 05/12/2017
| Office of the Deputy Secretary | Special Advisor | DC160199 | 09/12/2016
|  | Special Assistant | DC160189 | 07/27/2016
| Office of the General Counsel | Deputy General Counsel for Strategic Initiatives | DC170136 | 05/31/2017
|  | Senior Advisor | DA170158 | 06/07/2017
|  | Senior Counsel | DC170095 | 03/31/2017
| Office of the Secretary | Advance Lead | DA170159 | 07/18/2016
|  | Advisor for Special Projects | DA160129 | 07/22/2016
|  | Confidential Assistant (2) | DA170113 | 07/12/2016
|  |  | DC170126 | 05/08/2017
|  | Confidential Assistant for Special Projects | DA170103 | 06/09/2017
|  | Deputy White House Liaison (2) | DA170116 | 06/27/2017
|  |  | DA160156 | 07/26/2016
|  | Scheduler | DA170143 | 07/08/2016
|  | Senior Advisor | DA170148 | 07/08/2016
|  | Staff Assistant (2) | DA170099 | 06/15/2017
|  |  | DA170162 | 07/21/2016
| Office of the Under Secretary | Deputy Director, Office of Public Affairs | DC160171 | 07/06/2016
|  | Director of Congressional and Public Affairs | DC160179 | 07/20/2016
|  | Press Secretary and Program Manager, Office of Public Affairs | DC170103 | 04/14/2017
| Office of the Under Secretary | Special Assistant | DC160207 | 10/06/2016
| Office of the Under Secretary for Food Safety | Staff Assistant | DA170147 | 08/05/2016
| Office of the Under Secretary for Marketing and Regulatory Programs | Confidential Assistant | DA160175 | 08/13/2016
| Office of the Under Secretary for Research, Education, and Economics | Chief of Staff Confidential Assistant Senior Advisor | DA160157 DA170146 DA160161 | 09/06/2016 09/06/2016 09/14/2016
| Office of Under Secretary for Natural Resources and Environment | Special Advisor | DA160159 | 09/14/2016
| Office of White House Liaison | Deputy Director, Office of White House Liaison | DC170053 | 03/06/2017
|  | Director, Office of White House Liaison | DC170061 | 03/21/2017
|  | Special Advisor | DC160177 | 07/19/2016
| Patent and Trademark Office | Deputy Chief Communications Officer for Strategic Communications | DC170077 | 03/23/2017
|  | Senior Advisor | DC170088 | 03/24/2017
| Office of Risk Management Agency | Senior Advisor | DA160179 | 10/07/2016
| Office of Rural Housing Service | Staff Assistant | DA170124 | 10/07/2016
COMMISSION ON CIVIL RIGHTS | Office of the Commissioners | Special Assistant (2) | CC170001 | 01/09/2017
|  |  | CC170002 | 01/09/2017
COMMODITY FUTURES TRADING COMMISSION | Office of Division of Enforcement Office of the Chairperson | Director, Division of Enforcement Public Affairs Specialist (Speechwriter) | CT170005 CT170001 | 03/15/2017 01/27/2017
|  | Director of Legislative Affairs | CT170004 | 03/23/2017
|  | Market Intelligence Advisor | CT170008 | 04/11/2017
|  | Director, Office of Public Affairs | CT170009 | 06/08/2017
COUNCIL ON ENVIRONMENTAL QUALITY | Office of Council on Environmental Quality | Executive Assistant Special Assistant for Legislative Affairs | EQ160002 EQ170001 | 09/08/2016 11/08/2016
DEPARTMENT OF DEFENSE | Office of Assistant Secretary of Defense (Public Affairs) | Speechwriter Chief Speechwriter | DD170112 DD170014 | 04/14/2017 12/08/2016
| Office of the Assistant Secretary of Defense (International Security Affairs) | Special Assistant (Middle East Policy)(2) | DD170134 DD160165 | 05/04/2017 08/01/2016
| Office of the Assistant Secretary of Defense (Legislative Affairs) | Special Assistant (Legislative Affairs) Chief, Policy | DD170130 | 05/24/2017
|  | Special Assistant (Legislative Affairs) for Installations, Environment, and Energy | DD170153 | 05/30/2017
|  | Special Assistant (Legislative Affairs) for Europe/North Atlantic Treaty Organization | DD170148 | 06/02/2017
|  | Special Assistant (Legislative Affairs) Chief, Research | DD170165 | 06/15/2017
|  | Special Assistant (Legislative Affairs) for General Services Administration/Cyber | DD170138 | 06/20/2017
|  | Special Assistant (Legislative Affairs) Chief, Acquisition, Technology and Logistics | DD170169 | 06/20/2017
|  | Special Assistant | DD170008 | 11/15/2016
| Office of the Assistant Secretary of Defense (Special Operations/Low Intensity Conflict) | Special Assistant for Special Operations/Low Intensity Conflict | DD170162 | 05/24/2017
| Office of the Assistant Secretary of Defense (Strategy Plans and Capabilities) | Senior Advisor (Strategy, Plans, and Force Development) Special Assistant (Nuclear & Missile Defense) | DD170147 DD170163 | 05/17/2017 05/24/2017
|  | Special Assistant (Strategy Plans and Capabilities) | DD170171 | 06/15/2017
|  | Special Assistant for Strategy and Force Development | DD170173 | 06/15/2017
| Office of the Director (Cost Assessment and Program Evaluation) | Special Assistant, Cost Assessment and Program Evaluation | DD170123 | 05/12/2017
| Office of the Secretary | Special Assistant | DD160185 | 08/29/2016
|  | Confidential Assistant | DD170022 | 12/22/2016
| Office of the Secretary of Defense | Special Assistant (Russia, Ukraine, & Eurasia) | DD170034 | 01/04/2017
|  | Special Assistant for White House Liaison | DD170117 | 05/05/2017
|  | Advance Officer (3) | DD170136 | 05/17/2017
|  |  | DD170164 | 06/02/2017
|  |  | DD170029 | 12/21/2016
|  | Confidential Assistant | DD170093 | 06/02/2017
|  | Deputy White House Liaison (2) | DD170094 | 06/02/2017
|  |  | DD170011 | 11/22/2016
|  | Protocol Officer | DD170030 | 12/21/2016
|  | Special Assistant (2) | DD160177 | 09/01/2016
|  |  | DD170026 | 12/28/2016
|  | Special Assistant (Personnel and Readiness) | DD170006 | 10/31/2016
| Office of the Under Secretary of Defense (Acquisition, Technology, and Logistics) | Special Assistant, Principal Deputy Under Secretary of Defense (Acquisition, Technology and Logistics) | DD160184 | 09/08/2016
|  | Special Assistant for Energy, Installations and Environment | DD170010 | 11/09/2016
| Office of the Under Secretary of Defense (Comptroller) | Special Assistant (Comptroller) | DD170151 | 05/17/2017
| Office of the Under Secretary of Defense (Policy) | Special Assistant for Homeland Defense Integration and Defense Support | DD160155 | 07/06/2016
|  | Special Assistant for Asian and Pacific Security Affairs | DD160161 | 07/18/2016
|  | Correspondence Assistant, Office of the Under Secretary of Defense for Policy | DD170001 | 08/12/2016
|  | Special Assistant for Middle East Policy | DD160176 | 08/25/2016
|  | Special Assistant for Afghanistan, Pakistan and Central Asia | DD160192 | 10/31/2016
| Washington Headquarters Services | Defense Fellow (15) | DD170110 | 05/12/2017
|  |  | DD170124 | 05/12/2017
|  |  | DD170122 | 06/02/2017
|  |  | DD170179 | 06/15/2017
|  |  | DD160157 | 07/12/2016
|  |  | DD160158 | 07/19/2016
|  |  | DD160170 | 08/16/2016
|  |  | DD160171 | 08/16/2016
|  |  | DD160179 | 08/29/2016
|  |  | DD160180 | 08/29/2016
|  |  | DD160181 | 08/29/2016
|  |  | DD160194 | 10/14/2016
|  |  | DD160195 | 10/14/2016
|  |  | DD170009 | 11/15/2016
|  |  | DD170017 | 11/30/2016
DEPARTMENT OF THE AIR FORCE | Office of Assistant Secretary Air Force, Installations, Environment, and Energy | Special Assistant | DF160044 | 08/23/2016
| Office of Assistant Secretary of the Air Force for Manpower and Reserve Affairs | Special Assistant | DF160041 | 08/11/2016
| Office of the Secretary | Special Assistant and Speechwriter | DF160040 | 07/13/2016
DEPARTMENT OF THE ARMY | Office Assistant Secretary Army (Civil Works) | Special Assistant (Civil Works) (2) | DW160040 DW160041 | 07/12/2016 07/14/2016
| Office Assistant Secretary Army (Manpower and Reserve Affairs) | Special Advisor (Manpower and Reserve Affairs) | DW160050 | 07/08/2016
| Office of the General Counsel | Special Assistant | DW160046 | 07/19/2016
| Office of the Secretary | Special Advisor for Digital Strategy and Engagement | DW160051 | 07/01/2016
|  | Director of Strategic Communications for the Secretary of the Army | DW160053 | 07/08/2016
DEPARTMENT OF THE NAVY | Office of the Assistant Secretary of Navy (Energy, Installations and Environment) | Climate Change and Sustainability Project Manager | DN160051 | 08/12/2016
| Office of the Under Secretary of the Navy | Special Assistant for International Affairs | DN170007 | 02/06/2017
|  | Residence Director | DN170017 | 02/09/2017
DEPARTMENT OF EDUCATION | Office for Civil Rights | Confidential Assistant | DB170112 | 05/19/2017
|  | Special Assistant | DB170115 | 05/23/2017
| Office of Career Technical and Adult Education | Policy Analyst | DB160111 | 07/01/2016
| Office of Communications and Outreach | Communications Director Confidential Assistant (3) | DB170122 DB170098 DB170123 DB160113 | 06/08/2017 04/19/2017 06/20/2017 07/08/2016
|  | Deputy Press Secretary | DB160118 | 07/21/2016
|  | Press Secretary and Strategic Communications Advisor | DB160114 | 07/07/2016
|  | Special Assistant (3) | DB170088 | 04/07/2017
|  |  | DB170099 | 04/19/2017
|  |  | DB170106 | 04/20/2017
|  | Special Assistant (Supervisory) | DB170116 | 05/26/2017
| Office of Elementary and Secondary Education | Confidential Assistant (2) | DB170102 DB160116 | 04/18/2017 07/07/2016
|  | Deputy Assistant Secretary for Policy and Strategic Initiatives | DB160127 | 09/14/2016
|  | Special Assistant | DB170110 | 05/12/2017
| Office of Innovation and Improvement | Senior Policy Advisor Chief of Staff | DB160119 DB160120 | 07/26/2016 07/29/2016
| Office of Legislation and Congressional Affairs | Confidential Assistant (3) | DB170077 DB170096 DB170117 | 04/03/2017 04/18/2017 06/13/2017
| Office of Planning, Evaluation and Policy Development | Senior Policy Advisor (2) | DB160105 DB160106 | 07/01/2016 07/01/2016
| Office of Postsecondary Education | Special Assistant | DB170109 | 05/16/2017
| Office of Special Education and Rehabilitative Services | Confidential Assistant Special Assistant | DB170100 DB160117 | 04/18/2017 07/15/2016
| Office of the Deputy Secretary | Engagement Manager | DB160102 | 07/05/2016
| Office of the General Counsel | Attorney Advisor | DB170082 | 04/03/2017
|  | Confidential Assistant | DB170092 | 04/06/2017
| Office of the Secretary | Confidential Assistant (5) | DB170078 | 04/03/2017
|  |  | DB170085 | 04/12/2017
|  |  | DB170093 | 04/19/2017
|  |  | DB170094 | 04/24/2017
|  |  | DB170121 | 06/07/2017
|  | Deputy Director of Scheduling and Advance | DB160130 | 09/30/2016
|  | Director of Scheduling and Advance | DB160112 | 07/01/2016
|  | Director, White House Liaison | DB170074 | 03/16/2017
|  | Special Assistant (7) | DB170089 | 04/07/2017
|  |  | DB170087 | 04/14/2017
|  |  | DB170105 | 04/27/2017
|  |  | DB170095 | 04/28/2017
|  |  | DB170111 | 05/19/2017
|  |  | DB160110 | 07/01/2016
|  |  | DB160125 | 08/31/2016
|  | Special Projects Manager | DB160109 | 07/01/2016
| Office of the Under Secretary | Confidential Assistant | DB160115 | 07/19/2016
|  | Director of Operations | DB160131 | 09/30/2016
DEPARTMENT OF ENERGY | Office of Assistant Secretary for Congressional and Intergovernmental Affairs | Advisor for Intergovernmental and External Affairs Legislative Affairs Advisor (3) | DE170116 DE170093 DE170092 DE170145 | 03/30/2017 03/10/2017 03/15/2017 05/17/2017
|  | Senior Advisor for Intergovernmental and External Affairs | DE160141 | 07/07/2016
|  | Special Advisor (3) | DE170110 | 03/29/2017
|  |  | DE160165 | 10/04/2016
|  |  | DE170012 | 10/31/2016
|  | Special Assistant | DE160152 | 08/29/2016
| Office of Assistant Secretary for Electricity Delivery and Energy Reliability | Senior Advisor | DE170090 | 05/04/2017
| Office of Assistant Secretary for Energy Efficiency and Renewable Energy | Chief of Strategic Initiatives Senior Advisor Senior Advisor for External Affairs Special Advisor Special Advisor for Stakeholder Engagement | DE170015 DE170168 DE170119 DE170169 DE170001 | 12/20/2016 06/20/2017 04/06/2017 06/15/2017 10/07/2016
| Office of Assistant Secretary for Environmental Management | Senior Advisor | DE170131 | 05/02/2017
| Office of Assistant Secretary for Fossil Energy | Special Advisor (2) | DE170091 DE170003 | 03/14/2017 10/26/2016
| Office of Assistant Secretary for International Affairs | Special Advisor Senior Advisor | DE170120 DE160143 | 03/30/2017 07/27/2016
| Office of Assistant Secretary for Nuclear Energy | Senior Advisor and Chief of Staff | DE170095 | 03/21/2017
| Office of Associate Under Secretary for Environment, Health, Safety and Security | Senior Advisor—Veterans Relations | DE170139 | 05/08/2017
| Loan Programs Office | Special Advisor for Congressional and Intergovernmental Affairs | DE170032 | 12/20/2016
| Office of Economic Impact and Diversity | Special Assistant | DE170117 | 04/14/2017
| Office of Energy Policy and Systems Analysis | Director of the Quadrennial Energy Review Secretariat | DE160166 | 10/12/2016
|  | Senior Advisor | DE170171 | 06/09/2017
|  | Senior Analyst for Energy Policy | DE170153 | 05/08/2017
|  | Special Advisor (3) | DE170111 | 03/29/2017
|  |  | DE170166 | 05/30/2017
|  |  | DE160151 | 09/08/2016
| Office of Management | Director of Scheduling | DE170124 | 03/30/2017
|  | Senior Advisor for Special Projects | DE170151 | 05/11/2017
|  | Senior Advisor and Director of Special Projects | DE160159 | 09/29/2016
|  | Special Assistant | DE160167 | 10/04/2016
|  | Special Advisor for Strategic Planning | DE170010 | 11/22/2016
| Office of Public Affairs | Deputy Director, Office of Public Affairs | DE170107 | 03/21/2017
|  | Digital Strategy Advisor | DE170108 | 03/21/2017
|  | Press Assistant (2) | DE170121 | 04/04/2017
|  |  | DE170125 | 04/14/2017
|  | Press Secretary (2) | DE170129 | 04/14/2017
|  |  | DE160145 | 08/15/2016
|  | Principal Deputy Press Secretary | DE160146 | 08/05/2016
| Office of Scheduling and Advance | Director, Office of Scheduling and Advance | DE170133 | 04/14/2017
|  | Special Advisor | DE160158 | 09/23/2016
| Office of the Chief Information Officer | Deputy Chief of Staff | DE160138 | 07/13/2016
| Office of the Deputy Secretary | Special Advisor | DE160156 | 09/23/2016
| Office of the Secretary | Advisor for Operations and Support | DE170011 | 11/22/2016
|  | Deputy White House Liaison | DE170130 | 05/12/2017
|  | Deputy White House Liaison and Leadership Development Director | DE170009 | 11/22/2016
|  | Executive Support Specialist | DE170114 | 03/13/2017
|  | Policy Advisor and Special Assistant | DE170163 | 05/12/2017
|  | Special Assistant (5) | DE170115 | 03/13/2017
|  |  | DE170109 | 03/29/2017
|  |  | DE170118 | 03/31/2017
|  |  | DE160150 | 08/17/2016
|  |  | DE160157 | 08/31/2016
|  | White House Liaison and Senior Advisor | DE160169 | 10/14/2016
| Office of the Secretary of Energy Advisory Board | Deputy Director, Office of Secretarial Boards and Councils | DE170142 | 05/08/2017
ENVIRONMENTAL PROTECTION AGENCY | Office of Public Affairs | Deputy Associate Administrator for Public Affairs (3) | EP170048 EP170051 EP160048 | 05/11/2017 05/16/2017 07/01/2016
|  | Director of Speechwriting | EP160052 | 08/15/2016
|  | Press Secretary | EP160047 | 07/01/2016
|  | Strategic Communications Advisor | EP160051 | 08/15/2016
| Office of Public Engagement and Environmental Education | Deputy Associate Administrator for Public Engagement | EP170049 | 05/04/2017
|  | Director of Public Engagement | EP160054 | 08/15/2016
| Office of the Administrator | Deputy White House Liaison (2) | EP170047 | 05/11/2017
|  |  | EP170006 | 11/17/2016
|  | Director of Scheduling and Advance | EP170055 | 05/10/2017
|  | Special Assistant | EP160058 | 09/14/2016
|  | White House Liaison (2) | EP170026 | 03/28/2017
|  |  | EP160050 | 07/08/2016
| Office of the Assistant Administrator for Land and Emergency Management | Senior Advisor for Land and Emergency Management | EP170067 | 06/06/2017
| Office of the Associate Administrator for Congressional and Intergovernmental Relations | Deputy Associate Administrator for Congressional and Intergovernmental Relations (2) | EP170045 EP170054 | 05/12/2017 05/23/2017
|  | Deputy Associate Administrator for Congressional Relations | EP170053 | 05/12/2017
|  | Senior Advisor for Congressional and Intergovernmental Relations | EP170001 | 10/26/2016
|  | Special Assistant for Intergovernmental Relations | EP170060 | 06/02/2017
| Office of the Associate Administrator for Policy | Senior Deputy Associate Administrator for Policy | EP170050 | 05/11/2017
|  | Policy Assistant | EP170066 | 05/23/2017
EXPORT-IMPORT BANK | Office of the Chairman | Deputy Chief of Staff | EB170002 | 01/17/2017
FEDERAL COMMUNICATIONS COMMISSION | Office of Media Relations | Director Special Assistant | FC170008 FC170010 | 04/13/2017 05/24/2017
|  | Public Affairs Specialist | FC170009 | 06/22/2017
FEDERAL ENERGY REGULATORY COMMISSION | Office of General Counsel Office of the Chairman | Program Analyst Confidential Assistant | DR160005 DR160006 | 07/01/2016 07/01/2016
GENERAL SERVICES ADMINISTRATION | Office of Congressional and Intergovernmental Affairs | Policy Advisor Special Assistant Congressional Relations Specialist | GS170020 GS170027 GS170002 | 04/14/2017 05/04/2017 11/09/2016
| Office of Government-wide Policy | Senior Advisor | GS160029 | 08/17/2016
| Office of Small Business Utilization | Senior Advisor | GS170038 | 05/30/2017
| Office of Strategic Communications | Senior Communications Advisor | GS170026 | 05/11/2017
|  | Press Secretary | GS170028 | 05/11/2017
|  | Associate Administrator for Strategic Communications | GS170023 | 06/02/2017
| Office of the Administrator | Senior Advisor for Administrative Services | GS170025 | 05/02/2017
|  | Senior Advisor for Technology | GS170021 | 03/31/2017
|  | Special Assistant | GS170039 | 05/25/2017
|  | White House Liaison | GS170016 | 04/05/2017
| Office of Regional Administrators | Special Assistant | GS170015 | 03/10/2017
|  | Special Assistant (National Capital Region) | GS170019 | 04/17/2017
DEPARTMENT OF HEALTH AND HUMAN SERVICES | Office of Administration for Children and Families | Confidential Assistant (2) | DH170086 DH160132 | 03/23/2017 07/07/2016
|  | Policy Advisor | DH170138 | 03/20/2017
|  | Principal Deputy Director for Office of Refugee Resettlement | DH170229 | 05/11/2017
|  | Public Affairs Specialist | DH170025 | 11/09/2016
|  | Senior Policy Advisor (2) | DH160166 | 07/26/2016
|  |  | DH160176 | 08/16/2016
|  | Special Advisor | DH160177 | 09/01/2016
|  | Special Assistant (2) | DH170127 | 02/21/2017
|  |  | DH170190 | 04/12/2017
| Office of Administration for Community Living | Advisor | DH170234 | 04/26/2017
| Office of Centers for Medicare and Medicaid Services | Senior Advisor Senior Advisor to the Principal Deputy Administrator | DH170172 DH170108 | 03/28/2017 02/27/2017
|  | Senior Counselor | DH170220 | 05/08/2017
|  | Special Advisor for Engagement | DH160192 | 09/13/2016
|  | Special Assistant | DH170255 | 06/16/2017
| Office of Food and Drug Administration | Senior Advisor | DH170188 | 03/31/2017
| Office of Health Resources and Services Administration Office of the Administrator | Special Assistant | DH170278 | 06/20/2017
| Office of National Institutes of Health | Chief of Staff and Senior Policy Director | DH170003 | 11/03/2016
| Office for Civil Rights | Chief of Staff | DH170211 | 05/23/2017
|  | Senior Advisor for Operations (2) | DH170254 | 06/02/2017
|  |  | DH170010 | 10/27/2016
|  | Special Advisor (2) | DH170217 | 05/11/2017
|  |  | DH170006 | 10/14/2016
| Office of Global Affairs | Senior Advisor | DH170103 | 02/21/2017
|  | Advisor | DH170113 | 02/21/2017
| Office of Health Reform | Policy Advisor | DH170139 | 03/03/2017
|  | Senior Policy Advisor | DH170141 | 03/03/2017
|  | Policy Advisor for Health Reform | DH170098 | 03/17/2017
| Office of Intergovernmental and External Affairs | Director of External Affairs Director of Intergovernmental Affairs | DH170136 DH170133 | 02/27/2017 03/30/2017
|  | Regional Director, Dallas, Texas, Region VI | DH170233 | 05/11/2017
|  | Special Advisor (2) | DH160182 | 08/30/2016
|  |  | DH160183 | 09/02/2016
|  | Special Assistant | DH170199 | 04/14/2017
| Office of the Assistant Secretary for Health | Associate Director for Operations and Engagement | DH160198 | 09/29/2016
|  | Associate Director for Policy | DH170094 | 02/21/2017
|  | Chief of Staff | DH170256 | 06/02/2017
|  | Liaison | DH170137 | 03/28/2017
|  | Special Assistant (2) | DH170097 | 02/21/2017
|  |  | DH160196 | 09/15/2016
| Office of the Assistant Secretary for Legislation | Special Advisor Director of Investigations | DH170157 DH170184 | 03/30/2017 04/03/2017
|  | Special Assistant | DH160179 | 08/25/2016
|  | Chief of Staff | DH160195 | 09/15/2016
|  | Policy Advisor | DH170027 | 11/30/2016
| Office of the Assistant Secretary for Preparedness and Response | Senior Advisor (2) | DH170285 DH170009 | 06/27/2017 10/18/2016
| Office of the Assistant Secretary for Public Affairs | Assistant Speechwriter (2) | DH170208 DH170212 | 04/11/2017 04/19/2017
|  | Chief Spokesperson | DH170216 | 05/04/2017
|  | Communications Director for Human Services | DH160164 | 07/21/2016
|  | Deputy Press Secretary | DH160160 | 07/08/2016
|  | Director of Digital Media | DH170267 | 06/06/2017
|  | Director of Specialty Communications and Spokesperson | DH170002 | 10/13/2016
|  | Director of Speechwriting | DH160163 | 08/01/2016
|  | National Press Secretary for Health Care | DH160157 | 07/12/2016
|  | Press Assistant | DH170011 | 10/27/2016
|  | Press Assistant (Regional Media) | DH170175 | 04/14/2017
|  | Press Secretary and Special Advisor | DH170004 | 10/14/2016
|  | Special Advisor | DH170088 | 02/21/2017
|  | Special Assistant (2) | DH170134 | 03/10/2017
|  |  | DH170252 | 05/22/2017
| Office of the Secretary | Advisor | DH170239 | 05/12/2017
|  | Briefing Coordinator | DH170218 | 04/14/2017
|  | Deputy Scheduler | DH170158 | 03/23/2017
|  | Director (Office of Documents and Regulations Management) | DH170241 | 05/01/2017
|  | Director of Advance | DH170169 | 03/23/2017
|  | Director of Boards and Commissions | DH170177 | 04/28/2017
|  | Policy Advisor for Health Policy (2) | DH170093 | 02/21/2017
|  |  | DH170262 | 06/06/2017
|  | Policy Advisor for Human Services Policy | DH170238 | 05/12/2017
|  | Senior Advisor | DH160180 | 09/01/2016
|  | Senior Regulatory Advisor | DH160197 | 09/22/2016
|  | Special Assistant (7) | DH170128 | 02/21/2017
|  |  | DH170112 | 02/22/2017
|  |  | DH170180 | 04/06/2017
|  |  | DH170244 | 05/19/2017
|  |  | DH170272 | 06/13/2017
|  |  | DH160178 | 08/16/2016
|  |  | DH160181 | 09/12/2016
|  | Special Assistant for Health Policy | DH170242 | 05/12/2017
|  | Special Assistant for Public Health and Science | DH170187 | 04/14/2017
DEPARTMENT OF HOMELAND SECURITY | Office of Assistant Secretary for International Affairs—Policy | Special Assistant, Office of International Affairs | DM160313 | 09/12/2016
| Office of Federal Emergency Management Agency | Director, Department of Homeland Security Center for Faith-Based and Neighborhood Partnerships | DM170110 | 04/13/2017
|  | Director of Public Affairs | DM170136 | 05/04/2017
|  | Director of Intergovernmental Affairs | DM170150 | 05/25/2017
|  | Director of Legislative Affairs | DM170168 | 06/01/2017
| Office of Assistant Secretary for Legislative Affairs | Director Associate Director, Office of Legislative Affairs | DM170159 DM170167 | 05/17/2017 06/05/2017
|  | Confidential Assistant | DM170174 | 06/07/2017
| Office of Partnership and Engagement | Senior Business Liaison | DM170137 | 05/04/2017
| Office of the Assistant Secretary for Intergovernmental Affairs | Intergovernmental Affairs Coordinator | DM170046 | 12/22/2016
| Office of the Assistant Secretary for Policy | Advisor (2) | DM170104 DM170105 | 03/31/2017 03/31/2017
|  | Confidential Assistant | DM170166 | 05/10/2017
|  | Policy Analyst (2) | DM170205 | 06/16/2017
|  |  | DM170206 | 06/30/2017
|  | Special Assistant (4) | DM160294 | 08/17/2016
|  |  | DM160300 | 08/17/2016
|  |  | DM160307 | 09/02/2016
|  |  | DM160296 | 09/15/2016
|  | Deputy Director for Asia-Pacific | DM170021 | 11/15/2016
|  | Special Assistant (2) | DM170044 | 12/15/2016
|  |  | DM170045 | 12/15/2016
| Office of the Assistant Secretary for Public Affairs | Assistant Press Secretary Communications Director | DM160311 DM170148 | 09/08/2016 06/02/2017
|  | Coordinator for Strategic Communications | DM170143 | 05/17/2017
|  | Director of Strategic Communications | DM160305 | 09/07/2016
|  | Press Assistant | DM160298 | 08/17/2016
|  | Press Assistant/Rapid Response Coordinator | DM170186 | 06/15/2017
|  | Senior Director of Content | DM170149 | 06/30/2017
|  | Special Assistant | DM170083 | 03/23/2017
| Office of the Chief of Staff | Advance Representative (2) | DM170080 | 03/15/2017
|  |  | DM170133 | 05/11/2017
|  | Briefing Book Coordinator | DM170155 | 05/10/2017
|  | Confidential Assistant (2) | DM170139 | 05/04/2017
|  |  | DM170169 | 05/31/2017
|  | Counselor | DM160315 | 09/30/2016
|  | Deputy White House Liaison (2) | DM170084 | 03/15/2017
|  |  | DM170183 | 05/23/2017
|  | Director of Scheduling and Advance and Chief of Protocol | DM170170 | 05/17/2017
|  | Scheduler | DM170209 | 06/30/2017
|  | Special Assistant (5) | DM170085 | 03/16/2017
|  |  | DM170132 | 05/02/2017
|  |  | DM170211 | 06/29/2017
|  |  | DM160276 | 07/13/2016
|  |  | DM170043 | 12/15/2016
| Office of the Executive Secretariat | Briefing Book Coordinator | DM160310 | 09/01/2016
| Office of the Secretary | Counselor | DM170142 | 05/02/2017
|  | Confidential Assistant | DM160273 | 07/20/2016
| Office of the Under Secretary for Science and Technology | Counselor for Export Controls | DM160295 | 08/17/2016
| Privacy Officer | Advisor | DM170113 | 04/24/2017
| Office of United States Citizenship and Immigration Services | Special Assistant | DM160306 | 09/07/2016
| Office of United States Customs and Border Protection | Confidential Assistant Senior Policy Advisor | DM170198 DM170216 | 06/16/2017 06/30/2017
| Office of United States Immigration and Customs Enforcement | Director of Communications | DM170144 | 05/08/2017
DEPARTMENT OF HOUSING AND URBAN DEVELOPMENT | Office of Community Planning and Development | Senior Advisor | DU170128 | 05/30/2017
| Office of Congressional and Intergovernmental Relations | Advisor Congressional Relations Specialist | DU170087 DU170095 | 04/03/2017 03/20/2017
|  | Congressional Relations Specialist Assistant | DU160049 | 09/15/2016
|  | Senior Advisor (2) | DU170084 | 04/03/2017
|  |  | DU170118 | 05/31/2017
| Office of Field Policy and Management | Advisor Special Assistant (2) | DU170124 DU170125 DU170004 | 05/05/2017 05/12/2017 11/22/2016
| Office of Housing | Advisor for Single Family Asset Management | DU170123 | 05/01/2017
| Office of Policy Development and Research | Director for Strong Cities and Strong Communities | DU170111 | 04/19/2017
|  | Senior Advisor | DU170122 | 05/04/2017
| Office of Public Affairs | Assistant Press Secretary | DU160046 | 08/25/2016
|  | Deputy Assistant Secretary for Public Affairs (2) | DU170090 DU160041 | 03/20/2017 08/05/2016
|  | Deputy Director of Speechwriting | DU160040 | 07/20/2016
|  | Director of Speechwriting (2) | DU170112 | 04/14/2017
|  |  | DU160043 | 07/26/2016
|  | Press Secretary | DU170017 | 03/23/2017
|  | Special Advisor for Digital Strategy | DU160039 | 07/28/2016
|  | Speechwriter | DU170081 | 03/31/2017
| Office of Public and Indian Housing | Senior Policy Advisor | DU160044 | 08/31/2016
|  | Special Advisor (3) | DU170054 | 03/27/2017
|  |  | DU170055 | 03/27/2017
|  |  | DU170001 | 10/06/2016
|  | Special Policy Advisor | DU170113 | 05/22/2017
| Office of the Administration | Advance Coordinator | DU170106 | 04/03/2017
|  | Briefing and Book Coordinator | DU170114 | 04/07/2017
|  | Deputy Executive Secretary | DU160050 | 09/29/2016
|  | Director of Advance | DU170103 | 04/12/2017
|  | Director of Scheduling | DU170116 | 04/06/2017
|  | Director, Office of Executive Scheduling and Operations | DU170058 | 03/27/2017
|  | Special Assistant | DU170096 | 03/20/2017
|  | Special Assistant and Briefing Book Coordinator | DU160048 | 09/07/2016
| Office of the General Counsel | Senior Counsel (3) | DU170094 | 03/23/2017
|  |  | DU170117 | 05/05/2017
|  |  | DU170135 | 05/30/2017
|  | Special Assistant | DU160045 | 08/22/2016
| Office of the Secretary | Chief of Staff/Senior Counsel | DU170003 | 12/12/2016
|  | Deputy White House Liaison | DU170002 | 10/18/2016
|  | Executive Assistant (2) | DU170062 | 03/02/2017
|  |  | DU170127 | 05/31/2017
|  | Senior Advisor | DU170100 | 04/28/2017
|  | White House Liaison | DU170059 | 03/02/2017
DEPARTMENT OF THE INTERIOR | Office of the Assistant Secretary—Fish and Wildlife and Parks | Advisor Special Assistant Special Assistant | DI170062 DI170077 DI160093 | 05/03/2017 05/04/2017 09/23/2016
| Office of the Assistant Secretary—Indian Affairs | Advisor | DI170046 | 03/16/2017
| Office of the Assistant Secretary—Land and Minerals Management | Special Assistant (2) | DI170067 DI170081 | 05/04/2017 05/17/2017
|  | Advisor | DI170065 | 05/30/2017
| Office of the Assistant Secretary—Policy, Management and Budget | Senior Advisor | DI160082 | 07/29/2016
| Office of Bureau of Land Management | Advisor | DI160079 | 07/22/2016
| Office of Bureau of Ocean Energy Management | Advisor | DI160095 | 10/03/2016
| Office of Congressional and Legislative Affairs | Deputy Director, Office of Congressional and Legislative Affairs | DI170042 | 04/12/2017
|  | Special Assistant (2) | DI170073 | 05/12/2017
|  |  | DI160096 | 10/14/2016
| Office of the Deputy Secretary | Advisor | DI160083 | 08/19/2016
| Office of the Solicitor | Advisor (2) | DI170064 | 05/04/2017
|  |  | DI170093 | 06/14/2017
|  | Counselor | DI170096 | 06/15/2017
| Secretary's Immediate Office | Advance Representative (2) | DI170066 | 05/04/2017
|  |  | DI170095 | 06/15/2017
|  | Advisor | DI170080 | 05/12/2017
|  | Advisor, Intergovernmental Affairs | DI170082 | 05/11/2017
|  | Deputy Communications Director and Press Secretary | DI160094 | 09/16/2016
|  | Deputy Director, Office of External Affairs | DI170041 | 05/09/2017
|  | Deputy Director, Office of Scheduling and Advance | DI170088 | 06/07/2017
|  | Deputy Press Secretary | DI170075 | 05/12/2017
|  | Director, Office of Scheduling and Advance | DI170045 | 03/10/2017
|  | Senior Advisor for Alaskan Affairs | DI170083 | 05/16/2017
|  | Special Assistant (5) | DI170048 | 03/10/2017
|  |  | DI170074 | 05/02/2017
|  |  | DI170076 | 05/30/2017
|  |  | DI170085 | 06/06/2017
|  |  | DI170001 | 10/14/2016
|  | Special Assistant (Scheduling and Advance) (2) | DI170043 DI170044 | 03/10/2017 03/10/2017
|  | White House Liaison | DI170047 | 03/10/2017
|  | Writer | DI170089 | 06/27/2017
DEPARTMENT OF JUSTICE | Office of Antitrust Division | Counsel | DJ170081 | 05/31/2017
| Office of Civil Rights Division | Counsel | DJ170121 | 06/02/2017
|  | Senior Counsel | DJ170127 | 06/23/2017
| Office of Environment and Natural Resources Division | Counsel Special Assistant and Counsel | DJ170069 DJ170106 | 05/02/2017 05/22/2017
| Office of Legal Policy | Counsel (3) | DJ170048 | 03/30/2017
|  |  | DJ170090 | 05/22/2017
|  |  | DJ170087 | 05/24/2017
| Office of Legislative Affairs | Confidential Assistant | DJ170074 | 05/02/2017
|  | Attorney Advisor (3) | DJ170055 | 05/22/2017
|  |  | DJ170077 | 06/26/2017
|  |  | DJ170009 | 10/26/2016
| Office of Public Affairs | Chief Speechwriter | DJ170109 | 05/31/2017
|  | Confidential Assistant | DJ170080 | 05/31/2017
|  | Deputy Speechwriter | DJ170111 | 05/31/2017
|  | Media Affairs Coordinator | DJ170093 | 05/08/2017
|  | Press Assistant (2) | DJ170051 | 05/08/2017
|  |  | DJ170107 | 05/31/2017
|  | Principal Deputy Director | DJ170037 | 03/07/2017
|  | Public Affairs Specialist | DJ170102 | 05/31/2017
|  | Speechwriter (2) | DJ170006 | 09/23/2016
|  |  | DJ170002 | 12/12/2016
| Office of the Associate Attorney General | Chief of Staff and Counsel | DJ170091 | 05/22/2017
| Office of the Attorney General | Confidential Assistant | DJ170083 | 05/22/2017
|  | Counselor (2) | DJ170088 | 05/26/2017
|  |  | DJ170094 | 05/31/2017
|  | Deputy White House Liaison | DJ170039 | 02/23/2017
|  | Director of Advance | DJ170103 | 05/31/2017
|  | Director of Scheduling | DJ170024 | 05/22/2017
|  | Special Assistant | DJ170040 | 03/01/2017
|  | White House Liaison | DJ170084 | 05/02/2017
| Office of the Deputy Attorney General | Counsel (6) | DJ170062 DJ170072 DJ170073 DJ170089 DJ170056 DJ170092 | 05/02/2017 05/02/2017 05/02/2017 05/04/2017 05/22/2017 05/22/2017
| Office of the Legal Counsel | Counsel | DJ170086 | 05/08/2017
| Office on Violence Against Women | Advisor | DJ160141 | 07/26/2016
DEPARTMENT OF LABOR | Office of Employment and Training Administration | Senior Advisor Senior Policy Advisor | DL170058 DL170065 | 05/30/2017 06/15/2017
| Office of Congressional and Intergovernmental Affairs | Legislative Assistant | DL170066 | 06/27/2017
| Senior Legislative Assistant | DL160122 | 08/15/2016
|  | Legislative Officer | DL170001 | 10/21/2016
| Office of Public Affairs | Speech Writer | DL170063 | 05/31/2017
|  | Director of Speechwriting | DL160124 | 08/22/2016
|  | Special Assistant | DL160128 | 10/07/2016
|  | Press Secretary | DL170007 | 11/09/2016
| Office of the Deputy Secretary | Chief of Staff | DL160125 | 08/22/2016
|  | Policy Advisor | DL170005 | 11/08/2016
| Office of the Secretary | Advisor | DL160103 | 07/20/2016
|  | Counsel | DL170059 | 05/25/2017
|  | Counselor | DL170052 | 04/28/2017
|  | Deputy Chief of Staff | DL170062 | 05/30/2017
|  | Deputy Director of Advance | DL170061 | 05/31/2017
|  | Deputy Director of Scheduling | DL170060 | 06/12/2017
|  | Deputy Director, Scheduling and Advance | DL160114 | 08/09/2016
|  | Special Assistant | DL160118 | 08/01/2016
| Office of the Solicitor | Attorney Advisor | DL170051 | 04/06/2017
|  | Counselor | DL160104 | 07/06/2016
| Office of Veterans Employment and Training Service | Special Assistant | DL160133 | 10/04/2016
| Office of Wage and Hour Division | Policy Advisor | DL160119 | 08/09/2016
|  | Deputy Chief of Staff | DL170004 | 11/01/2016
NATIONAL AERONAUTICS AND SPACE ADMINISTRATION | Office of the Administrator | White House Liaison | NN170039 | 04/19/2017
NATIONAL ENDOWMENT FOR THE ARTS | Office of the Chief of Staff Office of the Senior Deputy Chair | Director of Congressional Affairs Confidential Assistant | NA160008 NA170006 | 8/17/2016 03/21/2017
NATIONAL ENDOWMENT FOR THE HUMANITIES | Office of the Chairman | White House Liaison and Chairman's Strategic Scheduler | NH170001 | 8/31/2016
NATIONAL LABOR RELATIONS BOARD | Office of the Board Members | Director Congressional and Public Affairs Officer | NL170012 | 06/16/2017
OCCUPATIONAL SAFETY AND HEALTH REVIEW COMMISSION | Office of Commissioners | Counsel | SH170001 | 12/21/2016
OFFICE OF MANAGEMENT AND BUDGET | Office of Communications | Press Secretary Deputy Associate Director for Communications Deputy Press Secretary | BO170065 BO170074 BO170075 | 04/19/2017 05/19/2017 06/22/2017
| Office of Education, Income Maintenance and Labor Programs | Confidential Assistant | BO170073 | 05/16/2017
| Office of General Counsel | Assistant Deputy General Counsel | BO170051 | 03/31/2017
|  | Counsel | BO170050 | 04/14/2017
|  | Confidential Assistant | BO170076 | 05/25/2017
| Office of General Government Programs | Confidential Assistant | BO170061 | 04/07/2017
| Office of Health Division | Confidential Assistant | BO170048 | 03/31/2017
| Office of Legislative Affairs | Confidential Assistant | BO160049 | 09/16/2016
|  | Deputy | BO160045 | 07/12/2016
|  | Deputy for Legislative Affairs (3) | BO170040 | 03/08/2017
|  |  | BO170032 | 03/10/2017
|  |  | BO170070 | 05/12/2017
|  | Legislative Analyst (2) | BO170056 | 04/14/2017
|  |  | BO160046 | 08/10/2016
|  | Special Assistant for Legislative Affairs | BO170072 | 05/04/2017
| Office of National Security Programs | Confidential Assistant | BO170068 | 05/22/2017
| Office of Natural Resource Programs | Confidential Assistant | BO170054 | 04/14/2017
| Office of E-Government and Information Technology | Program Analyst | BO170001 | 10/07/2016
| Office of Federal Procurement Policy | Confidential Assistant | BO160050 | 09/23/2016
| Office of Information and Regulatory Affairs | Counselor Confidential Assistant | BO170063 BO170077 | 04/14/2017 06/08/2017
| Office of Management and Budget | Confidential Assistant | BO160048 | 08/15/2016
| Office of the Director | Confidential Assistant (3) | BO170038 | 03/31/2017
|  |  | BO170062 | 04/24/2017
|  |  | BO170067 | 05/05/2017
|  | Confidential Assistant (Deputy Director) | BO170047 | 04/12/2017
|  | Deputy Chief of Staff | BO170060 | 04/14/2017
|  | Senior Advisor | BO170003 | 11/02/2016
|  | Special Assistant (2) | BO170057 | 04/07/2017
|  |  | BO170005 | 11/29/2016
OFFICE OF NATIONAL DRUG CONTROL POLICY | Office of Legislative Affairs | Senior Legislative and Policy Advisor | QQ160005 | 07/20/2016
| Office of National Drug Control Policy | Digital Engagement Specialist | QQ170002 | 03/31/2017
| Office of the Director | White House Liaison | QQ170003 | 03/09/2017
|  | Chief Strategist | QQ170005 | 06/06/2017
OFFICE OF PERSONNEL MANAGEMENT | Office of Communications Office of the Director | Speech Writer Special Assistant (2) Deputy Chief of Staff | PM170028 PM170032 PM160028 PM170037 | 05/04/2017 05/12/2017 07/20/2016 06/08/2017
OFFICE OF SCIENCE AND TECHNOLOGY POLICY | Office of Science and Technology Policy | Confidential Assistant Assistant Director for Legislative Affairs | TS170005 TS170006 | 03/29/2017 06/29/2017
OFFICE OF THE UNITED STATES TRADE REPRESENTATIVE | Office of the Ambassador | Executive Secretary Director of Scheduling and Advance | TN170011 TN170014 | 04/19/2017 05/19/2017
| Office of Public and Media Affairs | Deputy Press Secretary and Director of Press Operations | TN160008 | 07/21/2016
OFFICIAL RESIDENCE OF THE VICE PRESIDENT | Official Residence of the Vice President | Deputy Residence Manager | RV170001 | 02/09/2017
PRESIDENTS COMMISSION ON WHITE HOUSE FELLOWSHIPS | Presidents Commission on White House Fellowships | Associate Director Confidential Assistant Special Assistant (2) | WH160003 WH170007 WH170011 WH160004 | 08/04/2016 06/02/2017 06/02/2017 09/01/2016
SECURITIES AND EXCHANGE COMMISSION | Office of the Chairman | Confidential Assistant | SE170001 | 05/19/2017
SELECTIVE SERVICE SYSTEM | Office of the Director | Special Advisor | SS170001 | 06/08/2017
SMALL BUSINESS ADMINISTRATION | Office of Administration Office of Capital Access | Senior Advisor Special Advisor (2) | SB170036 SB170021 SB160037 | 05/05/2017 03/21/2017 09/23/2016
| Office of Communications and Public Liaison | Assistant Director for Internal Communications and Public Liaison | SB170009 | 03/07/2017
|  | Deputy Press Secretary | SB170038 | 05/10/2017
| Office of Congressional and Legislative Affairs | Deputy Assistant Administrator Deputy Assistant Administrator for Congressional and Legislative Affairs Legislative Assistant (2) | SB170015 SB160036 SB170011 SB170027 | 03/30/2017 09/16/2016 03/10/2017 04/19/2017
| Office of Entrepreneurial Development | Senior Advisor Special Advisor | SB170020 SB170041 | 04/06/2017 05/22/2017
| Office of Faith-Based and Community Initiatives | Director of Faith Based and Community Initiatives | SB170034 | 05/16/2017
| Office of Field Operations | Regional Administrator Region IX | SB170019 | 03/24/2017
|  | Senior Advisor (2) | SB170026 | 04/11/2017
|  |  | SB170033 | 05/12/2017
| Office of Investment and Innovation | Special Assistant Senior Advisor | SB170043 SB170044 | 05/31/2017 06/06/2017
| Office of the Administrator | Assistant Administrator for Intergovernmental Affairs | SB170012 | 03/10/2017
|  | Special Advisor | SB170013 | 03/10/2017
|  | Senior Advisor | SB170022 | 04/14/2017
SOCIAL SECURITY ADMINISTRATION | Office of the Commissioner | Confidential Assistant | SZ170007 | 06/06/2017
DEPARTMENT OF STATE | Office of Bureau of Arms Control, Verification, and Compliance | Public Affairs Specialist | DS170008 | 12/06/2016
| Office of Bureau of Economic and Business Affairs | Special Assistant | DS160116 | 07/08/2016
| Office of Bureau of Energy Resources | Senior Advisor Special Assistant | DS170154 DS170010 | 05/31/2017 12/06/2016
| Office of Bureau of International Information Programs | Deputy Coordinator Public Affairs Specialist | DS170155 DS170006 | 06/09/2017 12/08/2016
| Office of Bureau of Legislative Affairs | Deputy Assistant Secretary Legislative Management Officer | DS170168 DS160119 | 06/09/2017 07/08/2016
| Office of Bureau of Public Affairs | Senior Advisor | DS170160 | 06/09/2017
| Office of Bureau of Western Hemisphere Affairs | Special Assistant | DS170156 | 06/09/2017
| Office of Global Food Security | Special Assistant | DS160121 | 07/21/2016
| Office of Global Women's Issues | Staff Assistant | DS160127 | 07/29/2016
| Office of Policy Planning | Senior Advisor | DS170144 | 05/16/2017
|  | Special Assistant | DS170151 | 05/23/2017
|  | Speechwriter (2) | DS170145 | 05/16/2017
|  |  | DS170143 | 05/19/2017
|  | Staff Assistant | DS170174 | 06/27/2017
| Office of the Chief of Protocol | Protocol Officer (Ceremonials) | DS170178 | 06/29/2017
|  | Protocol Officer (Visits) | DS160126 | 07/27/2016
|  | Senior Protocol Officer (3) | DS170141 | 05/11/2017
|  |  | DS170152 | 05/25/2017
|  |  | DS170177 | 06/23/2017
|  | Staff Assistant | DS170173 | 06/15/2017
| Office of the Global Women's Issues | Senior Advisor | DS160120 | 07/20/2016
| Office of the Secretary | Senior Advisor (2) | DS170138 | 05/17/2017
|  |  | DS170005 | 11/21/2016
|  | Special Advisor (2) | DS170147 | 05/23/2017
|  |  | DS170165 | 06/02/2017
|  | Special Assistant | DS170167 | 06/09/2017
|  | Special Assistant (Scheduler) | DS170164 | 06/02/2017
|  | Staff Assistant (Deputy Scheduler) | DS170175 | 06/20/2017
| Office of the United States Global Aids Coordinator | Foreign Affairs Officer | DS160091 | 08/09/2016
| Office of the Under Secretary for Arms Control and International Security Affairs | Special Assistant | DS170133 | 05/12/2017
| Office of the Under Secretary for Civilian Security, Democracy, and Human Rights | Advisor Senior Advisor Staff Assistant (2) | DS170170 DS170148 DS170146 DS170015 | 06/09/2017 05/11/2017 05/12/2017 12/13/2016
| Office of the Under Secretary for Economic Growth, Energy, and the Environment | Senior Advisor | DS170157 | 06/02/2017
| Office of the Under Secretary for Management | Special Assistant (2) | DS170140 DS170134 | 05/22/2017 06/02/2017
TRADE AND DEVELOPMENT AGENCY | Office of the Director | Public Affairs Specialist (2) | TD170006 TD170008 | 05/26/2017 06/09/2017
DEPARTMENT OF TRANSPORTATION | Office of the Administrator | Director of Governmental Affairs Director of Communications Senior Advisor | DT170081 DT170101 DT160074 | 04/14/2017 05/16/2017 07/21/2016
| Office of Assistant Secretary for Budget and Programs | Special Assistant (2) | DT170065 DT170008 | 03/31/2017 10/31/2016
| Office of Assistant Secretary for Governmental Affairs | Governmental Affairs Officer (2) | DT170092 DT170115 | 04/14/2017 06/21/2017
|  | Senior Governmental Affairs Officer | DT170110 | 05/30/2017
| Office of Assistant Secretary for Transportation Policy | Deputy Assistant Secretary for Transportation Policy | DT170075 | 04/14/2017
|  | Senior Advisor | DT170096 | 05/09/2017
|  | Associate Director for Public Engagement | DT160071 | 07/20/2016
|  | Deputy Director for Public Engagement | DT160072 | 07/20/2016
| Office of Executive Secretariat | Special Assistant | DT170057 | 03/24/2017
| Immediate Office of the Administrator | Director of Governmental, International and Public Affairs (2) | DT170085 DT170011 | 04/14/2017 10/28/2016
|  | Special Assistant | DT170022 | 11/22/2016
| Office of Public Affairs | Speechwriter | DT170044 | 03/24/2017
|  | Deputy Director for Public Affairs | DT170055 | 04/14/2017
|  | Deputy Press Secretary | DT170105 | 05/12/2017
|  | Director of Digital Strategy | DT170007 | 10/28/2016
| Office of the Secretary | Advisor (2) | DT170028 | 01/06/2017
|  |  | DT170029 | 01/06/2017
|  | Counselor (2) | DT170080 | 04/12/2017
|  |  | DT170108 | 06/07/2017
|  | Deputy White House Liaison | DT170017 | 08/19/2016
|  | Director of Advance | DT170027 | 12/22/2016
|  | Director of Scheduling | DT170023 | 10/28/2016
|  | Executive Assistant | DT170091 | 04/14/2017
|  | Senior Advisor | DT170051 | 04/14/2017
|  | Senior White House Advisor | DT170050 | 03/14/2017
|  | Special Advisor | DT170043 | 03/14/2017
|  | Special Assistant (2) | DT170064 | 03/28/2017
|  |  | DT170052 | 03/30/2017
|  | Special Assistant for Scheduling and Advance (3) | DT170035 DT170036 DT170106 | 02/28/2017 02/28/2017 05/12/2017
|  | White House Liaison | DT170048 | 03/14/2017
| Office of Small and Disadvantaged Business Utilization | Senior Advisor | DT170088 | 04/04/2017
DEPARTMENT OF THE TREASURY | Office of the Assistant Secretary (Economic Policy) | Senior Advisor | DY160108 | 07/27/2016
| Office of the Chief of Staff | Advance Representative (2) | DY170070 | 03/01/2017
|  |  | DY170068 | 03/06/2017
|  | White House Liaison | DY170102 | 04/14/2017
|  | Director, Operations (Scheduling and Advance) | DY170060 | 02/27/2017
|  | Associate Director (2) | DY170018 | 11/22/2016
|  |  | DY170019 | 11/22/2016
|  | Deputy Chief of Staff (2) | DY170071 | 03/01/2017
|  |  | DY170145 | 06/28/2017
|  | Confidential Assistant | DY170015 | 11/21/2016
|  | Director of Scheduling, Advance and Administration | DY160103 | 07/07/2016
|  | Assistant | DY170069 | 03/10/2017
| Office of the Assistant Secretary (Legislative Affairs) | Special Advisor | DY170001 | 10/06/2016
| Office of the Assistant Secretary (Public Affairs) | Press Assistant Spokesperson (3) | DY170115 DY160102 DY160107 DY160125 | 05/12/2017 07/05/2016 07/21/2016 09/14/2016
|  | Senior Digital Strategy Specialist | DY160124 | 09/14/2016
| Office of Terrorism and Financial Intelligence | Senior Advisor to the United States for Terrorism and Financial Intelligence | DY170125 | 05/23/2017
| Office of the Assistant Secretary for Management | Special Assistant (2) | DY170012 DY160115 | 11/15/2016 07/21/2016
| Office of Secretary of the Treasury | Senior Advisor | DY160116 | 07/26/2016
| Office of Tax Policy | Senior Advisor | DY170126 | 05/23/2017
| Office of the Under Secretary for Domestic Finance | Special Assistant Senior Advisor Executive Assistant | DY170113 DY170135 DY160112 | 05/04/2017 06/02/2017 07/21/2016
| Office of Legislative Affairs | Special Assistant (2) | DY170138 | 06/16/2017
|  |  | DY170038 | 01/04/2017
|  | Senior Advisor | DY170083 | 03/22/2017
|  | Senior Advisor for Housing | DY170016 | 11/22/2016
| Office of Public Affairs | Senior Advisor (2) | DY170020 | 11/22/2016
|  |  | DY170013 | 11/15/2016
| Office of the Executive Secretary | Deputy Executive Secretary | DY170105 | 04/28/2017
|  | Special Assistant (2) | DY170074 | 03/16/2017
|  |  | DY170111 | 04/28/2017
| Office of the Secretary | Personal Aide | DY170073 | 03/23/2017
| Office of the Deputy Secretary | Special Advisor | DY170021 | 11/22/2016
|  | Special Assistant (2) | DY170017 | 11/22/2016
|  |  | DY170119 | 05/12/2017
| Office of the Under Secretary for International Affairs | Senior Advisor Special Assistant | DY170065 DY160109 | 02/27/2017 07/18/2016
DEPARTMENT OF VETERANS AFFAIRS | Office of Intergovernmental Affairs Office of Planning and Evaluation | Special Assistant Chief Design Officer | DV160065 DV160080 | 07/22/2016 09/20/2016
| Office of Public Affairs | Deputy Press Secretary | DV160066 | 07/22/2016
| Office of the Assistant Secretary for Congressional and Legislative Affairs | Special Assistant | DV170062 | 06/27/2017
| Office of the Assistant Secretary for Public and Intergovernmental Affairs | Special Advisor Special Assistant Press Secretary | DV170047 DV170051 DV170054 | 04/14/2017 05/01/2017 06/06/2017
| Office of the Secretary and Deputy | Special Assistant/Whitehouse Liaison | DV170052 | 06/14/2017
|  | Director, Special Projects, Strategic Partnerships | DV160060 | 07/06/2016
|  | Special Advisor and White House Liaison | DV160079 | 09/20/2016

Authority: 5 U.S.C. 3301 and 3302; E.O. 10577, 3 CFR, 1954-1958 Comp., p.218.

Office of Personnel Management.
Jeff T.H. Pon,
Director.

[FR Doc. 2018-09302 Filed 5-1-18; 8:45 am]

BILLING CODE 6325-39-P